DEPARTMENT OF LABOR

Employment and Training Administration

Labor Surplus Area Classification Under Executive Orders 12073 and 10582

ACTION: Notice.

SUMMARY: The purpose of this notice is to announce the annual list of labor surplus areas for Fiscal Year 2005.

EFFECTIVE DATE: The annual list of labor surplus areas is effective October 1, 2004 for all states.

FOR FURTHER INFORMATION CONTACT: Anthony D. Dais, Acting Division Chief, U.S. Employment Service, Employment and Training Administration, 200 Constitution Avenue, NW., Room C 4512, Washington, DC 20210. Telephone: (202) 693-2784.

SUPPLEMENTARY INFORMATION: The Department of Labor regulations implementing Executive Orders 12073 and 10582 are set forth at 20 CFR part 654, subparts A and B. These regulations require the Assistant Secretary of Labor to classify jurisdictions as labor surplus areas pursuant to the criteria specified in the regulations and to publish annually a list of labor surplus areas. Pursuant to those regulations the Assistant Secretary of Labor is hereby publishing the annual list of labor surplus areas. In addition, the regulations provide an exceptional circumstance criteria for classifying labor surplus areas when catastrophic events, such as natural disasters, plant closings, and contract cancellations are expected to have a long-term impact on labor market area conditions, discounting temporary or seasonal factors.

Dated: October 22, 2004.
Emily Stover DeRocco,
Assistant Secretary of Labor.

Eligible Labor Surplus Areas

Procedures for Classifying Labor Surplus Areas

Labor surplus areas are classified on the basis of civil jurisdictions rather than on a metropolitan area or labor market area basis under the basic labor surplus area program procedures. Civil jurisdictions are defined as all cities with a population of at least 25,000 and all counties. Townships with a population of 25,000 or more are also considered as civil jurisdictions in 4 states (Michigan, New Jersey, New York, and Pennsylvania). In Connecticut, Massachusetts, Puerto Rico, and Rhode Island where counties have very limited or no government functions, the classifications are done for individual towns.

A civil jurisdiction is classified as a labor surplus area when its average unemployment rate was at least 20 percent above the average unemployment rate for all states (including the District of Columbia and Puerto Rico) during the previous 2 calendar years. During periods of high national unemployment, the 20 percent ratio is disregarded and an area is classified as a labor surplus area if its unemployment rate during the previous 2 calendar years was 10 percent or more. This 10 percent ceiling concept comes into operation whenever the 2-year average unemployment rate for all states was 8.3 percent or above (i.e., 8.3 percent times the 1.20 ratio equals 10.0 percent). Similarly, a “floor” concept of 6.0 percent is used during periods of low national unemployment in order for an area to qualify as a labor surplus area. The 6 percent “floor” comes into effect whenever the average unemployment rate for all states during the 2-year reference period was 5.0 percent or less.

The Department of Labor issues the labor surplus area list on a fiscal year basis. The list becomes effective each October 1 and remains in effect through the following September 30. During the course of the fiscal year, the annual list is updated on the basis of exceptional circumstances petitions submitted by state workforce agencies and approved by the Employment and Training Administration. The reference period used in preparing the current list was January 2002 through December 2003. The national average unemployment rate during this period (including data for Puerto Rico) was 5.9 percent. After applying the 1.2 ratio, the threshold for FY 2005 is 7.1 percent. Therefore, areas are included on the current annual labor surplus area list because their average unemployment rate during the reference period was 7.1 percent or above.

Petition for Exceptional Circumstances Consideration

The classification procedures also provide for the designation of labor surplus areas under exceptional circumstance criteria. These procedures permit the regular classification criteria to be waived when an area experiences a significant increase in unemployment which is not temporary or seasonal and which was not adequately reflected in the data for the 2-year reference period. Under the program's exceptional circumstance procedures, labor surplus area classifications can be made on the basis of civil jurisdictions, Metropolitan Statistical Areas or Primary Metropolitan Statistical Areas. In order for an area to be classified as a labor surplus area under the exceptional circumstance criteria, the state workforce agency must submit a petition requesting such classification to the Department of Labor's Employment and Training Administration. The current conditions for exceptional circumstances classification are: An area unemployment rate of at least 7.1 percent for each of the three most recent months; projected unemployment rate of at least 7.1 for each of the next 12 months; and documented information that the exceptional circumstance event has already occurred. The state workforce agency may file petitions on behalf of civil jurisdictions, as well as Metropolitan Statistical Areas or Primary Metropolitan Statistical Areas, as defined by the Office of Management and Budget. The addresses of state workforce agencies are available on the LSA section of the ETA Web site http://www.uses.doleta.gov/lsa.asp. State workforce agencies should submit petitions, in electronic format, to dais.anthony@dol.gov or in hard copy to the ETA National Office, Office of Workforce Investment, U.S. Employment Service, 200 Constitution Ave., NW., Room S4231, Washington, DC 20210. Data collection for the petition is approved under OMB 1205-0207.

State Workforce Agencies

Alabama Department of Industrial Relations, 649 Monroe St., Montgomery 36130.

Alaska Department of Labor & Workforce Development, P.O. Box 21149, Juneau 99802.

Arizona Arizona Department of Economic Security, P.O. Box 6123, Phoenix 85005.

Arkansas Employment Security Department, P.O. Box 2981, Little Rock 72203-2981.

California Employment Development Department, 800 Capitol Mall, Sacramento 95814.

Colorado Department of Labor and Employment, 1515 Arapahoe Street, Denver 80202-2117.

Connecticut Connecticut Department of Labor, 200 Folly Brook Boulevard, Wethersfield 06109-1114.

Delaware Delaware Department of Labor, Division of Employment & Training, 4425 North Market Street, Wilmington 19802.

District of Columbia Department of Employment Services, 64 New York Avenue NE., Washington 20002.

Florida Agency for Workforce Innovation, Caldwell Building, 107 E. Madison Street, Tallahassee 32399-4120.

Georgia Georgia Department of Labor, 148 Andrew Young International Boulevard NE., Atlanta 30303.

Guam Department of Labor, Government of Guam, P.O. Box 23548 GMF, Agana 96921.

Hawaii Department of Labor and Industrial Relations, 830 Punchbowl St., Honolulu 96813.

Idaho Department of Labor, 317 W. Main Street, Boise 83735.

Illinois Department of Employment Security, 33 S. State Street, Chicago 60602-2802.

Indiana Department of Workforce Development, 10 North Senate Avenue, Indianapolis 46204-2277.

Iowa Iowa Workforce Development, 1000 Grand Avenue, Des Moines 50319.

Kansas Kansas Department of Labor, 401 SW. Topeka Avenue, Topeka 66603-3182.

Kentucky Department of Workforce Investment, 275 East Main Street, Frankfort 40621.

Louisiana Department of Labor, P.O. Box 94094, Baton Rouge 70804-9094.

Maine Department of Labor, 20 Union Street, Augusta 04332-0309.

Maryland Department of Labor, Licensing and Regulation, 1100 N. Eutaw St., Baltimore 21201.

Massachusetts Division of Career Services, 19 Staniford Street, Boston, 02114.

Michigan Department of Labor & Economic Growth, Victor Office Center, 201 N. Washington Square, Lansing 48913.

Minnesota Department of Employment & Economic Development, 390 North Robert Street, St. Paul 55101.

Mississippi Employment Security Commission, 1520 W. Capital St., P.O. Box 1699, Jackson 39215-1699.

Missouri Division of Workforce Development, P.O. Box 1087, Jefferson City 65102-1087.

Montana Department of Labor and Industry, P.O. Box 1728, Helena 59624.

Nebraska Department of Labor, Div of Employment, 550 South 16th Street, Lincoln 68509.

Nevada Nevada Department of Employment, Training and Rehabilitation, 500 E. Third Street, Carson City 89713.

New Hampshire Department of Employment Security, 32 S. Main Street, Concord 03301-4857.

New Jersey Department of Labor and Workforce Development, P.O. Box 110, Trenton 08625.

New Mexico Department of Labor, 401 Broadway, NE., P.O. Box 1928, Albuquerque 87103.

New York Department of Labor, State Campus, Building 12, Albany 12240.

North Carolina Employment Security Commission of North Carolina, P.O. Box 25903, Raleigh 27611.

North Dakota Job Service North Dakota, 1000 E. Divide Ave., P.O. Box 5507, Bismarck, 58506-5507.

Ohio Department of Jobs and Family Services, 30 E. Broad Street, Columbus 43215.

Oklahoma Employment Security Commission, 2401 North Lincoln, Will Rogers Memorial Office Building, Oklahoma City 73105.

Oregon Employment Department, Dept of Human Resources, 875 Union St., NE., Salem 97311.

Pennsylvania Department of Labor & Industry, 1720 Labor & Industry Bldg., Harrisburg 17121.

Puerto Rico Department of Labor and Human Resources Right To Employment Administration, 505 Munoz Rivera Avenue, Hato Rey 00936-4452.

Rhode Island Department of Labor & Training, 1511 Pontiac Avenue, Cranston 02920-4407.

South Carolina Employment Security Commission, Department of Employment and Training, P.O. Box 995, Columbia 29202.

South Dakota Department of Labor, 700 Governors Drive, Pierre 57501-2277.

Tennessee Department of Labor & Workforce Development, Division of Employment Security, 500 James Robertson Parkway 12th Floor, Davy Crockett Tower, Nashville 37245-1700.

Texas Texas Workforce Commission, 101 East 15th Street 440T, Austin 78778.

Utah Department of Workforce Services, 140 East 300 South, PO Box 45249, Salt Lake City 84145-0249.

Vermont Department of Employment & Training, P.O. Box 488, 5 Green Mountain Drive, Montpelier 05601-0488.

Virgin Islands Department of Labor, 53A & 54B Kronprindsen Gade, Charlotte Amalie 00802.

Virginia Virginia Employment Commission, 703 East Main Street, Richmond 23219.

Washington Employment Security Department, P.O. Box 9046, Olympia 98507-9046.

West Virginia Bureau of Employment Programs, 112 California Ave., Charleston 25305-0112.

Wisconsin Department of Workforce Development, 201 East Washington Avenue, Room 400X, Madison 53707.

Wyoming Department of Employment, 1510 East Pershing Boulevard, Cheyenne 82002.

Labor Surplus Areas
[October 1, 2004 Through September 30, 2005]
Eligible labor surplus areas | Civil jurisdictions included
ALABAMA:
ANNISTON CITY | ANNISTON CITY IN CALHOUN COUNTY.
BESSEMER CITY | BESSEMER CITY IN JEFFERSON COUNTY.
BIBB COUNTY | BIBB COUNTY.
BULLOCK COUNTY | BULLOCK COUNTY.
BUTLER COUNTY | BUTLER COUNTY.
CHAMBERS COUNTY | CHAMBERS COUNTY.
CHOCTAW COUNTY | CHOCTAW COUNTY.
CLARKE COUNTY | CLARKE COUNTY.
COLBERT COUNTY | COLBERT COUNTY.
CONECUH COUNTY | CONECUH COUNTY.
COOSA COUNTY | COOSA COUNTY.
CRENSHAW COUNTY | CRENSHAW COUNTY.
DALLAS COUNTY | DALLAS COUNTY.
DECATUR CITY | DECATUR CITY IN LIMESTONE COUNTY, MORGAN COUNTY.
ESCAMBIA COUNTY | ESCAMBIA COUNTY.
FAYETTE COUNTY | FAYETTE COUNTY.
FLORENCE CITY | FLORENCE CITY IN LAUDERDALE COUNTY.
FRANKLIN COUNTY | FRANKLIN COUNTY.
GADSDEN CITY | GADSDEN CITY IN ETOWAH COUNTY.
GREENE COUNTY | GREENE COUNTY.
HALE COUNTY | HALE COUNTY.
JACKSON COUNTY | JACKSON COUNTY.
LAMAR COUNTY | LAMAR COUNTY.
LAWRENCE COUNTY | LAWRENCE COUNTY.
LOWNDES COUNTY | LOWNDES COUNTY.
MARION COUNTY | MARION COUNTY.
MOBILE CITY | MOBILE CITY IN MOBILE COUNTY.
MONROE COUNTY | MONROE COUNTY.
PERRY COUNTY | PERRY COUNTY.
PHENIX CITY | PHENIX CITY IN LEE COUNTY, RUSSELL COUNTY.
PICKENS COUNTY | PICKENS COUNTY.
PRICHARD CITY | PRICHARD CITY IN MOBILE COUNTY.
RANDOLPH COUNTY | RANDOLPH COUNTY.
BALANCE OF RUSSELL COUNTY | RUSSELL COUNTY LESS PHENIX CITY.
SUMTER COUNTY | SUMTER COUNTY.
TALLADEGA COUNTY | TALLADEGA COUNTY.
TALLAPOOSA COUNTY | TALLAPOOSA COUNTY.
WASHINGTON COUNTY | WASHINGTON COUNTY.
WILCOX COUNTY | WILCOX COUNTY.
WINSTON COUNTY | WINSTON COUNTY.
ALASKA:
ALEUTIAN ISLAND WEST CENSUS AREA | ALEUTIAN ISLAND WEST CENSUS AREA.
BETHEL CENSUS AREA | BETHEL CENSUS AREA.
BRISTOL BAY BOROUGH DIV | BRISTOL BAY BOROUGH DIV.
DENALI BOROUGH | DENALI BOROUGH.
DILLINGHAM CENSUS AREA | DILLINGHAM CENSUS AREA.
FAIRBANKS CITY | FAIRBANKS CITY IN FAIRBANKS NORTH STAR BOROUGH.
HAINES BOROUGH | HAINES BOROUGH.
KENAI PENINSULA BOROUGH | KENAI PENINSULA BOROUGH.
KETCHIKAN GATEWAY BOROUGH | KETCHIKAN GATEWAY BOROUGH.
KODIAK ISLAND BOROUGH | KODIAK ISLAND BOROUGH.
LAKE AND PENINSULA BOROUGH | LAKE AND PENINSULA BOROUGH.
MATANUSKA-SUSITNA BOROUGH | MATANUSKA-SUSITNA BOROUGH.
NOME CENSUS AREA | NOME CENSUS AREA.
NORTH SLOPE BOROUGH | NORTH SLOPE BOROUGH.
NORTHWEST ARCTIC BOROUGH | NORTHWEST ARCTIC BOROUGH.
PRINCE OF WALES OUTER KETCHIKAN | PRINCE OF WALES OUTER KETCHIKAN.
SKAGWAY-HOONAH-ANGOON CEN AREA | SKAGWAY-HOONAH-ANGOON CEN AREA.
SOUTHEAST FAIRBANKS CENSUS AREA | SOUTHEAST FAIRBANKS CENSUS AREA.
VALDEZ CORDOVA CENSUS AREA | VALDEZ CORDOVA CENSUS AREA.
WADE HAMPTON CENSUS AREA | WADE HAMPTON CENSUS AREA.
WRANGELL-PETERSBURG CENSUS AREA | WRANGELL-PETERSBURG CENSUS AREA.
YAKUTAT BOROUGH | YAKUTAT BOROUGH.
YUKON-KOYUKUK CENSUS AREA | YUKON-KOYUKUK CENSUS AREA.
ARIZONA:
APACHE COUNTY | APACHE COUNTY.
AVONDALE CITY | AVONDALE CITY IN MARICOPA COUNTY.
BALANCE OF COCONINO COUNTY | COCONINO COUNTY LESS FLAGSTAFF CITY.
GILA COUNTY | GILA COUNTY.
GRAHAM COUNTY | GRAHAM COUNTY.
GREENLEE COUNTY | GREENLEE COUNTY.
BALANCE OF MARICOPA COUNTY | MARICOPA COUNTY LESS APACHE JUNCTION, AVONDALE CITY, CHANDLER CITY, GILBERT TOWN, GLENDALE CITY, GOODYEAR CITY, MESA CITY, PEORIA CITY, PHOENIX CITY, SCOTTSDALE CITY, SURPRISE CITY, TEMPE CITY.
NAVAJO COUNTY | NAVAJO COUNTY.
BALANCE OF PINAL COUNTY | PINAL COUNTY LESS APACHE JUNCTION, CASA GRANDE CITY.
SANTA CRUZ COUNTY | SANTA CRUZ COUNTY.
SURPRISE CITY | SURPRISE CITY IN MARICOPA COUNTY.
YUMA CITY | YUMA CITY IN YUMA COUNTY.
BALANCE OF YUMA COUNTY | YUMA COUNTY LESS YUMA CITY.
ARKANSAS:
ASHLEY COUNTY | ASHLEY COUNTY.
BRADLEY COUNTY | BRADLEY COUNTY.
CALHOUN COUNTY | CALHOUN COUNTY.
CHICOT COUNTY | CHICOT COUNTY.
CLAY COUNTY | CLAY COUNTY.
BALANCE OF CRITTENDEN COUNTY | CRITTENDEN COUNTY LESS WEST MEMPHIS CITY.
CROSS COUNTY | CROSS COUNTY.
DALLAS COUNTY | DALLAS COUNTY.
DESHA COUNTY | DESHA COUNTY.
DREW COUNTY | DREW COUNTY.
FULTON COUNTY | FULTON COUNTY.
HOT SPRING COUNTY | HOT SPRING COUNTY.
HOT SPRINGS CITY | HOT SPRINGS CITY IN GARLAND COUNTY.
IZARD COUNTY | IZARD COUNTY.
JACKSON COUNTY | JACKSON COUNTY.
JACKSONVILLE CITY | JACKSONVILLE CITY IN PULASKI COUNTY.
LAWRENCE COUNTY | LAWRENCE COUNTY.
LEE COUNTY | LEE COUNTY.
MISSISSIPPI COUNTY | MISSISSIPPI COUNTY.
MONROE COUNTY | MONROE COUNTY.
OUACHITA COUNTY | OUACHITA COUNTY.
PERRY COUNTY | PERRY COUNTY.
PHILLIPS COUNTY | PHILLIPS COUNTY.
PINE BLUFF CITY | PINE BLUFF CITY IN JEFFERSON COUNTY.
POINSETT COUNTY | POINSETT COUNTY.
POLK COUNTY | POLK COUNTY.
RANDOLPH COUNTY | RANDOLPH COUNTY.
SHARP COUNTY | SHARP COUNTY.
ST. FRANCIS COUNTY | ST. FRANCIS COUNTY.
UNION COUNTY | UNION COUNTY.
VAN BUREN COUNTY | VAN BUREN COUNTY.
WOODRUFF COUNTY | WOODRUFF COUNTY.
CALIFORNIA:
ALPINE COUNTY | ALPINE COUNTY.
ANTIOCH CITY | ANTIOCH CITY IN CONTRA COSTA COUNTY.
AZUSA CITY | AZUSA CITY IN LOS ANGELES COUNTY.
BAKERSFIELD CITY | BAKERSFIELD CITY IN KERN COUNTY.
BALDWIN PARK CITY | BALDWIN PARK CITY IN LOS ANGELES COUNTY.
BANNING CITY | BANNING CITY IN RIVERSIDE COUNTY.
BELL CITY | BELL CITY IN LOS ANGELES COUNTY.
BELL GARDENS CITY | BELL GARDENS CITY IN LOS ANGELES COUNTY.
BRENTWOOD CITY | BRENTWOOD CITY IN CONTRA COSTA COUNTY.
BALANCE OF BUTTE COUNTY | BUTTE COUNTY LESS CHICO CITY, PARADISE CITY.
CALAVERAS COUNTY | CALAVERAS COUNTY.
CALEXICO CITY | CALEXICO CITY IN IMPERIAL COUNTY.
CERES CITY | CERES CITY IN STANISLAUS COUNTY.
CHICO CITY | CHICO CITY IN BUTTE COUNTY.
CLOVIS CITY | CLOVIS CITY IN FRESNO COUNTY.
COACHELLA CITY | COACHELLA CITY IN RIVERSIDE COUNTY.
COLTON CITY | COLTON CITY IN SAN BERNARDINO COUNTY.
COLUSA COUNTY | COLUSA COUNTY.
COMPTON CITY | COMPTON CITY IN LOS ANGELES COUNTY.
CUDAHY CITY | CUDAHY CITY IN LOS ANGELES COUNTY.
DEL NORTE COUNTY | DEL NORTE COUNTY.
DELANO CITY | DELANO CITY IN KERN COUNTY.
EAST PALO ALTO CITY | EAST PALO ALTO CITY IN SAN MATEO COUNTY.
EL CENTRO CITY | EL CENTRO CITY IN IMPERIAL COUNTY.
EL MONTE CITY | EL MONTE CITY IN LOS ANGELES COUNTY.
FRESNO CITY | FRESNO CITY IN FRESNO COUNTY.
BALANCE OF FRESNO COUNTY | FRESNO COUNTY LESS CLOVIS CITY, FRESNO CITY.
GILROY CITY | GILROY CITY IN SANTA CLARA COUNTY.
GLENN COUNTY | GLENN COUNTY.
HANFORD CITY | HANFORD CITY IN KINGS COUNTY.
HEMET CITY | HEMET CITY IN RIVERSIDE COUNTY.
HOLISTER CITY | HOLISTER CITY IN SAN BENITO COUNTY.
HUNTINGTON PARK CITY | HUNTINGTON PARK CITY IN LOS ANGELES COUNTY.
IMPERIAL BEACH CITY | IMPERIAL BEACH CITY IN SAN DIEGO COUNTY.
BALANCE OF IMPERIAL COUNTY | IMPERIAL COUNTY LESS CALEXICO CITY, EL CENTRO CITY.
INDIO CITY | INDIO CITY IN RIVERSIDE COUNTY.
INGLEWOOD CITY | INGLEWOOD CITY IN LOS ANGELES COUNTY.
BALANCE OF KERN COUNTY | KERN COUNTY LESS BAKERSFIELD CITY, DELANO CITY, RIDGECREST CITY.
BALANCE OF KINGS COUNTY | KINGS COUNTY LESS HANFORD CITY.
LA PUENTE CITY | LA PUENTE CITY IN LOS ANGELES COUNTY.
LAKE COUNTY | LAKE COUNTY.
LAWNDALE CITY | LAWNDALE CITY IN LOS ANGELES COUNTY.
LODI CITY | LODI CITY IN SAN JOAQUIN COUNTY.
LOS ANGELES CITY | LOS ANGELES CITY IN LOS ANGELES COUNTY.
LOS BANOS CITY | LOS BANOS CITY IN MERCED COUNTY.
LYNWOOD CITY | LYNWOOD CITY IN LOS ANGELES COUNTY.
MADERA CITY | MADERA CITY IN MADERA COUNTY.
BALANCE OF MADERA COUNTY | MADERA COUNTY LESS MADERA CITY.
MANTECA CITY | MANTECA CITY IN SAN JOAQUIN COUNTY.
MARIPOSA COUNTY | MARIPOSA COUNTY.
MAYWOOD CITY | MAYWOOD CITY IN LOS ANGELES COUNTY.
MENDOCINO COUNTY | MENDOCINO COUNTY.
MERCED CITY | MERCED CITY IN MERCED COUNTY.
BALANCE OF MERCED COUNTY | MERCED COUNTY LESS LOS BANOS CITY, MERCED CITY.
MILPITAS CITY | MILPITAS CITY IN SANTA CLARA COUNTY.
MODESTO CITY | MODESTO CITY IN STANISLAUS COUNTY.
MODOC COUNTY | MODOC COUNTY.
BALANCE OF MONTEREY COUNTY | MONTEREY COUNTY LESS MARINA CITY, MONTEREY CITY, SALINAS CITY, SEASIDE CITY.
NATIONAL CITY | NATIONAL CITY IN SAN DIEGO COUNTY.
OAKLAND CITY | OAKLAND CITY IN ALAMEDA COUNTY.
OXNARD CITY | OXNARD CITY IN VENTURA COUNTY.
PARAMOUNT CITY | PARAMOUNT CITY IN LOS ANGELES COUNTY.
PERRIS CITY | PERRIS CITY IN RIVERSIDE COUNTY.
PICO RIVERA CITY | PICO RIVERA CITY IN LOS ANGELES COUNTY.
PITTSBURG CITY | PITTSBURG CITY IN CONTRA COSTA COUNTY.
PLUMAS COUNTY | PLUMAS COUNTY.
POMONA CITY | POMONA CITY IN LOS ANGELES COUNTY.
PORTERVILLE CITY | PORTERVILLE CITY IN TULARE COUNTY.
REDDING CITY | REDDING CITY IN SHASTA COUNTY.
RICHMOND CITY | RICHMOND CITY IN CONTRA COSTA COUNTY.
ROSEMEAD CITY | ROSEMEAD CITY IN LOS ANGELES COUNTY.
SALINAS CITY | SALINAS CITY IN MONTEREY COUNTY.
SAN BERNARDINO CITY | SAN BERNARDINO CITY IN SAN BERNARDINO COUNTY.
SAN FRANCISCO CITY | SAN FRANCISCO CITY IN SAN FRANCISCO COUNTY.
SAN JACINTO CITY | SAN JACINTO CITY IN RIVERSIDE COUNTY.
BALANCE OF SAN JOAQUIN COUNTY | SAN JOAQUIN COUNTY LESS LODI CITY, MANTECA CITY, STOCKTON CITY, TRACEY CITY.
SAN JOSE CITY | SAN JOSE CITY IN SANTA CLARA COUNTY.
SAN PABLO CITY | SAN PABLO CITY IN CONTRA COSTA COUNTY.
SANTA ANA CITY | SANTA ANA CITY IN ORANGE COUNTY.
SANTA CLARA CITY | SANTA CLARA CITY IN SANTA CLARA COUNTY.
BALANCE OF SANTA CLARA COUNTY | SANTA CLARA COUNTY LESS CAMPBELL CITY, CUPERTINO CITY, GILROY CITY, LOS ALTOS CITY, LOS GATOS TOWN, MILPITAS CITY, MORGAN HILL CITY, MOUNTAIN VIEW CITY, PALO ALTO CITY, SAN JOSE CITY, SANTA CLARA CITY, SARATOGA CITY, SUNNYVALE CITY.
SANTA CRUZ CITY | SANTA CRUZ CITY IN SANTA CRUZ COUNTY.
SANTA PAULA CITY | SANTA PAULA CITY IN VENTURA COUNTY.
SEASIDE CITY | SEASIDE CITY IN MONTEREY COUNTY.
BALANCE OF SHASTA COUNTY | SHASTA COUNTY LESS REDDING CITY.
SIERRA COUNTY | SIERRA COUNTY.
SISKIYOU COUNTY | SISKIYOU COUNTY.
SOUTH GATE CITY | SOUTH GATE CITY IN LOS ANGELES COUNTY.
BALANCE OF STANISLAUS COUNTY | STANISLAUS COUNTY LESS CERES CITY, MODESTO CITY, TURLOCK CITY.
STOCKTON CITY | STOCKTON CITY IN SAN JOAQUIN COUNTY.
SUNNYVALE CITY | SUNNYVALE CITY IN SANTA CLARA COUNTY.
BALANCE OF SUTTER COUNTY | SUTTER COUNTY LESS YUBA CITY.
TRACEY CITY | TRACEY CITY IN SAN JOAQUIN COUNTY.
TRINITY COUNTY | TRINITY COUNTY.
TULARE CITY | TULARE CITY IN TULARE COUNTY.
BALANCE OF TULARE COUNTY | TULARE COUNTY LESS PORTERVILLE CITY, TULARE CITY, VISALIA CITY.
TURLOCK CITY | TURLOCK CITY IN STANISLAUS COUNTY.
TWENTYNINE PALMS CITY | TWENTYNINE PALMS CITY IN SAN BERNARDINO COUNTY.
VICTORVILLE CITY | VICTORVILLE CITY IN SAN BERNARDINO COUNTY.
VISALIA CITY | VISALIA CITY IN TULARE COUNTY.
WATSONVILLE CITY | WATSONVILLE CITY IN SANTA CRUZ COUNTY.
YUBA CITY | YUBA CITY IN SUTTER COUNTY.
YUBA COUNTY | YUBA COUNTY.
COLORADO:
BALANCE OF ADAMS COUNTY | ADAMS COUNTY LESS ARVADA CITY, AURORA CITY, NORTHGLENN CITY, THORNTON CITY, WESTMINSTER CITY.
BENT COUNTY | BENT COUNTY.
CONEJOS COUNTY | CONEJOS COUNTY.
COSTILLA COUNTY | COSTILLA COUNTY.
DENVER CITY | DENVER CITY IN DENVER COUNTY.
DOLORES COUNTY | DOLORES COUNTY.
LAKE COUNTY | LAKE COUNTY.
LONGMONT CITY | LONGMONT CITY IN BOULDER COUNTY.
PUEBLO CITY | PUEBLO CITY IN PUEBLO COUNTY.
SAN JUAN COUNTY | SAN JUAN COUNTY.
CONNECTICUT:
ANSONIA TOWN | ANSONIA TOWN.
BRIDGEPORT CITY | BRIDGEPORT CITY.
HARTFORD CITY | HARTFORD CITY.
KILLINGLY TOWN | KILLINGLY TOWN.
NEW BRITAIN CITY | NEW BRITAIN CITY.
WATERBURY CITY | WATERBURY CITY.
WINCHESTER TOWN | WINCHESTER TOWN.
FLORIDA:
DANIA BEACH CITY | DANIA BEACH CITY IN BROWARD COUNTY.
DE SOTO COUNTY | DE SOTO COUNTY.
DELRAY BEACH CITY | DELRAY BEACH CITY IN PALM BEACH COUNTY.
FORT PIERCE CITY | FORT PIERCE CITY IN ST. LUCIE COUNTY.
FT. LAUDERDALE CITY | FT. LAUDERDALE CITY IN BROWARD COUNTY.
GLADES COUNTY | GLADES COUNTY.
HALLANDALE CITY | HALLANDALE CITY IN BROWARD COUNTY.
HARDEE COUNTY | HARDEE COUNTY.
HENDRY COUNTY | HENDRY COUNTY.
HIALEAH CITY | HIALEAH CITY IN MIAMI-DADE COUNTY.
HOMESTEAD CITY | HOMESTEAD CITY IN MIAMI-DADE COUNTY.
INDIAN RIVER COUNTY | INDIAN RIVER COUNTY.
LAUDERDALE LAKES CITY | LAUDERDALE LAKES CITY IN BROWARD COUNTY.
MIAMI BEACH CITY | MIAMI BEACH CITY IN MIAMI-DADE COUNTY.
MIAMI CITY | MIAMI CITY IN MIAMI-DADE COUNTY.
NORTH MIAMI CITY | NORTH MIAMI CITY IN MIAMI-DADE COUNTY.
RIVIERA BEACH CITY | RIVIERA BEACH CITY IN PALM BEACH COUNTY.
TAYLOR COUNTY | TAYLOR COUNTY.
WEST PALM BEACH CITY | WEST PALM BEACH CITY IN PALM BEACH COUNTY.
GEORGIA:
APPLING COUNTY | APPLING COUNTY.
ATKINSON COUNTY | ATKINSON COUNTY.
ATLANTA CITY | ATLANTA CITY IN DE KALB COUNTY, FULTON COUNTY.
BURKE COUNTY | BURKE COUNTY.
CHATTAHOOCHEE COUNTY | CHATTAHOOCHEE COUNTY.
EAST POINT CITY | EAST POINT CITY IN FULTON COUNTY.
GREENE COUNTY | GREENE COUNTY.
HANCOCK COUNTY | HANCOCK COUNTY.
JEFF DAVIS COUNTY | JEFF DAVIS COUNTY.
JEFFERSON COUNTY | JEFFERSON COUNTY.
JOHNSON COUNTY | JOHNSON COUNTY.
LA GRANGE CITY | LA GRANGE CITY IN TROUP COUNTY.
LAMAR COUNTY | LAMAR COUNTY.
LINCOLN COUNTY | LINCOLN COUNTY.
MACON COUNTY | MACON COUNTY.
MC DUFFIE COUNTY | MC DUFFIE COUNTY.
MERIWETHER COUNTY | MERIWETHER COUNTY.
MONTGOMERY COUNTY | MONTGOMERY COUNTY.
RANDOLPH COUNTY | RANDOLPH COUNTY.
TALIAFERRO COUNTY | TALIAFERRO COUNTY.
TELFAIR COUNTY | TELFAIR COUNTY.
TERRELL COUNTY | TERRELL COUNTY.
TOOMBS COUNTY | TOOMBS COUNTY.
TREUTLEN COUNTY | TREUTLEN COUNTY.
TURNER COUNTY | TURNER COUNTY.
UPSON COUNTY | UPSON COUNTY.
WARREN COUNTY | WARREN COUNTY.
WHEELER COUNTY | WHEELER COUNTY.
WILKES COUNTY | WILKES COUNTY.
IDAHO:
ADAMS COUNTY | ADAMS COUNTY.
BENEWAH COUNTY | BENEWAH COUNTY.
BONNER COUNTY | BONNER COUNTY.
BOUNDARY COUNTY | BOUNDARY COUNTY.
CALDWELL CITY | CALDWELL CITY IN CANYON COUNTY.
CARIBOU COUNTY | CARIBOU COUNTY.
CLEARWATER COUNTY | CLEARWATER COUNTY.
CUSTER COUNTY | CUSTER COUNTY.
ELMORE COUNTY | ELMORE COUNTY.
GEM COUNTY | GEM COUNTY.
IDAHO COUNTY. | IDAHO COUNTY.
BALANCE OF KOOTENAI COUNTY | KOOTENAI COUNTY LESS COEUR D ALENE CITY.
MINIDOKA COUNTY | MINIDOKA COUNTY.
NAMPA CITY | NAMPA CITY IN CANYON COUNTY.
PAYETTE COUNTY | PAYETTE COUNTY.
POWER COUNTY | POWER COUNTY.
SHOSHONE COUNTY | SHOSHONE COUNTY.
VALLEY COUNTY | VALLEY COUNTY.
WASHINGTON COUNTY | WASHINGTON COUNTY.
ILLINOIS:
ALEXANDER COUNTY | ALEXANDER COUNTY.
ALTON CITY | ALTON CITY IN MADISON COUNTY.
AURORA CITY | AURORA CITY IN DU PAGE COUNTY.
BELLEVILLE CITY | BELLEVILLE CITY IN ST. CLAIR COUNTY.
BOONE COUNTY | BOONE COUNTY.
BUREAU COUNTY | BUREAU COUNTY.
CALUMET CITY | CALUMET CITY IN COOK COUNTY.
CARPENTERSVILLE CITY | CARPENTERSVILLE CITY IN KANE COUNTY.
CARROLL COUNTY | CARROLL COUNTY.
CHICAGO CITY | CHICAGO CITY IN COOK COUNTY.
CHICAGO HEIGHTS CITY | CHICAGO HEIGHTS CITY IN COOK COUNTY.
CICERO CITY | CICERO CITY IN COOK COUNTY.
DANVILLE CITY | DANVILLE CITY IN VERMILION COUNTY.
DE WITT COUNTY | DE WITT COUNTY.
DECATUR CITY | DECATUR CITY IN MACON COUNTY.
DES PLAINES CITY | DES PLAINES CITY IN COOK COUNTY.
DOLTON VILLAGE | DOLTON VILLAGE IN COOK COUNTY.
EAST ST. LOUIS CITY | EAST ST. LOUIS CITY IN ST. CLAIR COUNTY.
ELGIN CITY | ELGIN CITY IN COOK COUNTY.
FAYETTE COUNTY | FAYETTE COUNTY.
FRANKLIN COUNTY | FRANKLIN COUNTY.
FREEPORT CITY | FREEPORT CITY IN STEPHENSON COUNTY.
FULTON COUNTY | FULTON COUNTY.
GALESBURG CITY | GALESBURG CITY IN KNOX COUNTY.
GALLATIN COUNTY | GALLATIN COUNTY.
GRANITE CITY | GRANITE CITY IN MADISON COUNTY.
GRUNDY COUNTY | GRUNDY COUNTY.
HANOVER PARK VILLAGE | HANOVER PARK VILLAGE IN COOK COUNTY.
HARDIN COUNTY | HARDIN COUNTY.
HARVEY CITY | HARVEY CITY IN COOK COUNTY.
JASPER COUNTY | JASPER COUNTY.
JOLIET CITY | JOLIET CITY IN WILL COUNTY.
KANKAKEE CITY | KANKAKEE CITY IN KANKAKEE COUNTY.
LA SALLE COUNTY | LA SALLE COUNTY.
MARION COUNTY | MARION COUNTY.
MASON COUNTY | MASON COUNTY.
MAYWOOD VILLAGE | MAYWOOD VILLAGE IN COOK COUNTY.
MONTGOMERY COUNTY | MONTGOMERY COUNTY.
NORTH CHICAGO CITY | NORTH CHICAGO CITY IN LAKE COUNTY.
PARK FOREST VILLAGE | PARK FOREST VILLAGE IN COOK COUNTY, WILL COUNTY.
PERRY COUNTY | PERRY COUNTY.
POPE COUNTY | POPE COUNTY.
PULASKI COUNTY | PULASKI COUNTY.
PUTNAM COUNTY | PUTNAM COUNTY.
ROCKFORD CITY | ROCKFORD CITY IN WINNEBAGO COUNTY.
ROMEOVILLE VILLAGE | ROMEOVILLE VILLAGE IN WILL COUNTY.
ROUND LAKE BEACH VILLAGE | ROUND LAKE BEACH VILLAGE IN LAKE COUNTY.
SALINE COUNTY | SALINE COUNTY.
ST. CHARLES CITY | ST. CHARLES CITY IN DU PAGE COUNTY, KANE COUNTY.
STARK COUNTY | STARK COUNTY.
WABASH COUNTY | WABASH COUNTY.
WAUKEGAN CITY | WAUKEGAN CITY IN LAKE COUNTY.
WEST CHICAGO CITY | WEST CHICAGO CITY IN DU PAGE COUNTY.
WHITESIDE COUNTY | WHITESIDE COUNTY.
INDIANA:
ANDERSON CITY | ANDERSON CITY IN MADISON COUNTY.
BLACKFORD COUNTY | BLACKFORD COUNTY.
EAST CHICAGO CITY | EAST CHICAGO CITY IN LAKE COUNTY.
FAYETTE COUNTY | FAYETTE COUNTY.
FULTON COUNTY | FULTON COUNTY.
GARY CITY | GARY CITY IN LAKE COUNTY.
GREENE COUNTY | GREENE COUNTY.
JAY COUNTY | JAY COUNTY.
KOKOMO CITY | KOKOMO CITY IN HOWARD COUNTY.
LAWRENCE COUNTY | LAWRENCE COUNTY.
MARION CITY | MARION CITY IN GRANT COUNTY.
MIAMI COUNTY | MIAMI COUNTY.
MICHIGAN CITY | MICHIGAN CITY IN LA PORTE COUNTY.
MUNCIE CITY | MUNCIE CITY IN DELAWARE COUNTY.
ORANGE COUNTY | ORANGE COUNTY.
RANDOLPH COUNTY | RANDOLPH COUNTY.
STARKE COUNTY | STARKE COUNTY.
STEUBEN COUNTY | STEUBEN COUNTY.
WASHINGTON COUNTY | WASHINGTON COUNTY.
WHITE COUNTY | WHITE COUNTY.
IOWA:
BURLINGTON CITY | BURLINGTON CITY IN DES MOINES COUNTY.
CLARKE COUNTY | CLARKE COUNTY.
LEE COUNTY | LEE COUNTY.
TAMA COUNTY | TAMAY COUNTY.
KANSAS:
CHEROKEE COUNTY | CHEROKEE COUNTY.
COFFEY COUNTY | COFFEY COUNTY.
DONIPHAN COUNTY | DONIPHAN COUNTY.
KANSAS CITY KN | KANSAS CITY KN IN WYANDOTTE COUNTY.
LEAVENWORTH CITY | LEAVENWORTH CITY IN LEAVENWORTH COUNTY.
LINN COUNTY | LINN COUNTY.
SUMNER COUNTY | SUMNER COUNTY.
WICHITA CITY | WICHITA CITY IN SEDGWICK COUNTY.
KENTUCKY:
ALLEN COUNTY | ALLEN COUNTY.
BALLARD COUNTY | BALLARD COUNTY.
BELL COUNTY | BELL COUNTY.
BOYLE COUNTY | BOYLE COUNTY.
BREATHITT COUNTY | BREATHITT COUNTY.
BRECKINRIDGE COUNTY | BRECKINRIDGE COUNTY.
BUTLER COUNTY | BUTLER COUNTY.
CARLISLE COUNTY | CARLISLE COUNTY.
CARROLL COUNTY | CARROLL COUNTY.
CARTER COUNTY | CARTER COUNTY.
CASEY COUNTY | CASEY COUNTY.
CLAY COUNTY | CLAY COUNTY.
CLINTON COUNTY | CLINTON COUNTY.
CUMBERLAND COUNTY | CUMBERLAND COUNTY.
EDMONSON COUNTY | EDMONSON COUNTY.
ELLIOTT COUNTY | ELLIOTT COUNTY.
FLOYD COUNTY | FLOYD COUNTY.
FULTON COUNTY | FULTON COUNTY.
GRAVES COUNTY | GRAVES COUNTY.
GRAYSON COUNTY | GRAYSON COUNTY.
HANCOCK COUNTY | HANCOCK COUNTY.
HARLAN COUNTY | HARLAN COUNTY.
HARRISON COUNTY | HARRISON COUNTY.
HICKMAN COUNTY | HICKMAN COUNTY.
KNOX COUNTY | KNOX COUNTY.
LAWRENCE COUNTY | LAWRENCE COUNTY.
LEE COUNTY | LEE COUNTY.
LESLIE COUNTY | LESLIE COUNTY.
LETCHER COUNTY | LETCHER COUNTY.
LEWIS COUNTY | LEWIS COUNTY.
LINCOLN COUNTY | LINCOLN COUNTY.
LOGAN COUNTY | LOGAN COUNTY.
LYON COUNTY | LYON COUNTY.
MAGOFFIN COUNTY | MAGOFFIN COUNTY.
MARSHALL COUNTY | MARSHALL COUNTY.
MARTIN COUNTY | MARTIN COUNTY.
BALANCE OF MC CRACKEN COUNTY | MC CRACKEN COUNTY LESS PADUCAH CITY.
MC CREARY COUNTY | MC CREARY COUNTY.
MC LEAN COUNTY | MC LEAN COUNTY.
MENIFEE COUNTY | MENIFEE COUNTY.
MONROE COUNTY | MONROE COUNTY.
MORGAN COUNTY | MORGAN COUNTY.
MUHLENBERG COUNTY | MUHLENBERG COUNTY.
NICHOLAS COUNTY | NICHOLAS COUNTY.
OHIO COUNTY | OHIO COUNTY.
PERRY COUNTY | PERRY COUNTY.
POWELL COUNTY | POWELL COUNTY.
RICHMOND CITY | RICHMOND CITY IN MADISON COUNTY.
RUSSELL COUNTY | RUSSELL COUNTY.
BALANCE OF WARREN COUNTY | WARREN COUNTY LESS BOWLING GREEN CITY.
WEBSTER COUNTY | WEBSTER COUNTY.
WOLFE COUNTY | WOLFE COUNTY.
LOUISIANA:
ALEXANDRIA CITY | ALEXANDRIA CITY IN RAPIDES PARISH.
ALLEN PARISH | ALLEN PARISH.
ASCENSION PARISH | ASCENSION PARISH.
ASSUMPTION PARISH | ASSUMPTION PARISH.
AVOYELLES PARISH | AVOYELLES PARISH.
BEAUREGARD PARISH | BEAUREGARD PARISH.
BIENVILLE PARISH | BIENVILLE PARISH.
CALDWELL PARISH | CALDWELL PARISH.
CATAHOULA PARISH | CATAHOULA PARISH.
CLAIBORNE PARISH | CLAIBORNE PARISH.
CONCORDIA PARISH | CONCORDIA PARISH.
DE SOTO PARISH | DE SOTO PARISH.
EAST CARROLL PARISH | EAST CARROLL PARISH.
EVANGELINE PARISH | EVANGELINE PARISH.
FRANKLIN PARISH | FRANKLIN PARISH.
GRANT PARISH | GRANT PARISH.
IBERVILLE PARISH | IBERVILLE PARISH.
JACKSON PARISH | JACKSON PARISH.
LA SALLE PARISH | LA SALLE PARISH.
LAKE CHARLES CITY | LAKE CHARLES CITY IN CALCASIEU PARISH.
MADISON PARISH | MADISON PARISH.
MONROE CITY | MONROE CITY IN OUACHITA PARISH.
MOREHOUSE PARISH | MOREHOUSE PARISH.
NEW IBERIA CITY | NEW IBERIA CITY IN IBERIA PARISH.
POINTE COUPEE PARISH | POINTE COUPEE PARISH.
RED RIVER PARISH | RED RIVER PARISH.
RICHLAND PARISH | RICHLAND PARISH.
SABINE PARISH | SABINE PARISH.
SHREVEPORT CITY | SHREVEPORT CITY IN BOSSIER PARISH, CADDO PARISH.
ST. JAMES PARISH | ST. JAMES PARISH.
ST. JOHN BAPTIST PARISH | ST. JOHN BAPTIST PARISH.
ST. LANDRY PARISH | ST. LANDRY PARISH.
ST. MARY PARISH | ST. MARY PARISH.
TANGIPAHOA PARISH | TANGIPAHOA PARISH.
TENSAS PARISH | TENSAS PARISH.
VERMILION PARISH | VERMILION PARISH.
WASHINGTON PARISH | WASHINGTON PARISH.
WEBSTER PARISH | WEBSTER PARISH.
WEST CARROLL PARISH | WEST CARROLL PARISH.
WINN PARISH | WINN PARISH.
MAINE:
PISCATAQUIS COUNTY | PISCATAQUIS COUNTY.
SOMERSET COUNTY | SOMERSET COUNTY.
WASHINGTON COUNTY | WASHINGTON COUNTY.
MARYLAND:
BALTIMORE CITY | BALTIMORE CITY.
DORCHESTER COUNTY | DORCHESTER COUNTY.
WORCESTER COUNTY | WORCESTER COUNTY.
MASSACHUSETTS:
ADAMS TOWN | ADAMS TOWN IN BERKSHIRE COUNTY.
AQUINNAH TOWN | AQUINNAH TOWN IN DUKES COUNTY.
ASHBURNHAM TOWN | ASHBURNHAM TOWN IN WORCESTER COUNTY.
ATHOL TOWN | ATHOL TOWN IN WORCESTER COUNTY.
BROOKFIELD TOWN | BROOKFIELD TOWN IN WORCESTER COUNTY.
CHELSEA CITY | CHELSEA CITY IN SUFFOLK COUNTY.
FALL RIVER CITY | FALL RIVER CITY IN BRISTOL COUNTY.
FITCHBURG CITY | FITCHBURG CITY IN WORCESTER COUNTY.
FLORIDA TOWN | FLORIDA TOWN IN BERKSHIRE COUNTY.
GARDNER TOWN | GARDNER TOWN IN WORCESTER COUNTY.
HARDWICK TOWN | HARDWICK TOWN IN WORCESTER COUNTY.
HARVARD TOWN | HARVARD TOWN IN WORCESTER COUNTY.
HAVERHILL CITY | HAVERHILL CITY IN ESSEX COUNTY.
HOLYOKE CITY | HOLYOKE CITY IN HAMPDEN COUNTY.
HUBBARDSTON TOWN | HUBBARDSTON TOWN IN WORCESTER COUNTY.
LAWRENCE CITY | LAWRENCE CITY IN ESSEX COUNTY.
LEOMINSTER CITY | LEOMINSTER CITY IN WORCESTER COUNTY.
LOWELL CITY | LOWELL CITY IN MIDDLESEX COUNTY.
METHUEN CITY | METHUEN CITY IN ESSEX COUNTY.
NEW BEDFORD CITY | NEW BEDFORD CITY IN BRISTOL COUNTY.
NORTHBRIDGE TOWN | NORTHBRIDGE TOWN IN WORCESTER COUNTY.
ORANGE TOWN | ORANGE TOWN IN FRANKLIN COUNTY.
PHILLIPSTON TOWN | PHILLIPSTON TOWN IN WORCESTER COUNTY.
PROVINCETOWN TOWN | PROVINCETOWN TOWN IN BARNSTABLE COUNTY.
ROWE TOWN | ROWE TOWN IN FRANKLIN COUNTY.
ROYALSTON TOWN | ROYALSTON TOWN IN WORCESTER COUNTY.
SALISBURY TOWN | SALISBURY TOWN IN ESSEX COUNTY.
SOUTHBRIDGE TOWN | SOUTHBRIDGE TOWN IN WORCESTER COUNTY.
SPRINGFIELD CITY | SPRINGFIELD CITY IN HAMPDEN COUNTY.
TEMPLETON TOWN | TEMPLETON TOWN IN WORCESTER COUNTY.
TRURO TOWN | TRURO TOWN IN BARNSTABLE COUNTY.
WARWICK TOWN | WARWICK TOWN IN FRANKLIN COUNTY.
WEBSTER TOWN | WEBSTER TOWN IN WORCESTER COUNTY.
WINCHENDON TOWN | WINCHENDON TOWN IN WORCESTER COUNTY.
MICHIGAN:
ALCONA COUNTY | ALCONA COUNTY.
ALPENA COUNTY | ALPENA COUNTY.
ANTRIM COUNTY | ANTRIM COUNTY.
ARENAC COUNTY | ARENAC COUNTY.
BARAGA COUNTY | BARAGA COUNTY.
BATTLE CREEK CITY | BATTLE CREEK CITY IN CALHOUN COUNTY.
BAY CITY | BAY CITY IN BAY COUNTY.
BENZIE COUNTY | BENZIE COUNTY.
BURTON CITY | BURTON CITY IN GENESEE COUNTY.
CHARLEVOIX COUNTY | CHARLEVOIX COUNTY.
CHEBOYGAN COUNTY | CHEBOYGAN COUNTY.
CHIPPEWA COUNTY | CHIPPEWA COUNTY.
CLARE COUNTY | CLARE COUNTY.
CRAWFORD COUNTY | CRAWFORD COUNTY.
DELTA COUNTY | DELTA COUNTY.
DETROIT CITY | DETROIT CITY IN WAYNE COUNTY.
EMMET COUNTY | EMMET COUNTY.
FLINT CITY | FLINT CITY IN GENESEE COUNTY.
GLADWIN COUNTY | GLADWIN COUNTY.
GOGEBIC COUNTY | GOGEBIC COUNTY.
GRAND RAPIDS CITY | GRAND RAPIDS CITY IN KENT COUNTY.
HIGHLAND PARK CITY | HIGHLAND PARK CITY IN WAYNE COUNTY.
HURON COUNTY | HURON COUNTY.
INKSTER CITY | INKSTER CITY IN WAYNE COUNTY.
IOSCO COUNTY | IOSCO COUNTY.
JACKSON CITY | JACKSON CITY IN JACKSON COUNTY.
KALAMAZOO CITY | KALAMAZOO CITY IN KALAMAZOO COUNTY.
KALKASKA COUNTY | KALKASKA COUNTY.
KEWEENAW COUNTY | KEWEENAW COUNTY.
LAKE COUNTY | LAKE COUNTY.
LAPEER COUNTY | LAPEER COUNTY.
LUCE COUNTY | LUCE COUNTY.
MACKINAC COUNTY | MACKINAC COUNTY.
MANISTEE COUNTY | MANISTEE COUNTY.
MASON COUNTY | MASON COUNTY.
MENOMINEE COUNTY | MENOMINEE COUNTY.
BALANCE OF MIDLAND COUNTY | MIDLAND COUNTY LESS MIDLAND CITY.
MISSAUKEE COUNTY | MISSAUKEE COUNTY.
MONTCALM COUNTY | MONTCALM COUNTY.
MONTMORENCY COUNTY | MONTMORENCY COUNTY.
MOUNT MORRIS TOWNSHIP | MOUNT MORRIS TOWNSHIP IN GENESEE COUNTY.
MUSKEGON CITY | MUSKEGON CITY IN MUSKEGON COUNTY.
BALANCE OF MUSKEGON COUNTY | MUSKEGON COUNTY LESS MUSKEGON CITY.
NEWAYGO COUNTY | NEWAYGO COUNTY.
OCEANA COUNTY | OCEANA COUNTY.
OGEMAW COUNTY | OGEMAW COUNTY.
ONTONAGON COUNTY | ONTONAGON COUNTY.
OSCEOLA COUNTY | OSCEOLA COUNTY.
OSCODA COUNTY | OSCODA COUNTY.
OTSEGO COUNTY | OTSEGO COUNTY.
PONTIAC CITY | PONTIAC CITY IN OAKLAND COUNTY.
PORT HURON CITY | PORT HURON CITY IN ST. CLAIR COUNTY.
PRESQUE ISLE COUNTY | PRESQUE ISLE COUNTY.
ROSCOMMON COUNTY | ROSCOMMON COUNTY.
ROSEVILLE CITY | ROSEVILLE CITY IN MACOMB COUNTY.
SAGINAW CITY | SAGINAW CITY IN SAGINAW COUNTY.
SANILAC COUNTY | SANILAC COUNTY.
SCHOOLCRAFT COUNTY | SCHOOLCRAFT COUNTY.
SHIAWASSEE COUNTY | SHIAWASSEE COUNTY.
BALANCE OF ST. CLAIR COUNTY | ST. CLAIR COUNTY LESS PORT HURON CITY.
ST. JOSEPH COUNTY | ST. JOSEPH COUNTY.
TUSCOLA COUNTY | TUSCOLA COUNTY.
VAN BUREN COUNTY | VAN BUREN COUNTY.
WARREN CITY | WARREN CITY IN MACOMB COUNTY.
WEXFORD COUNTY | WEXFORD COUNTY.
MINNESOTA:
AITKIN COUNTY | AITKIN COUNTY.
CASS COUNTY | CASS COUNTY.
CLEARWATER COUNTY | CLEARWATER COUNTY.
GRANT COUNTY | GRANT COUNTY.
ITASCA COUNTY | ITASCA COUNTY.
KANABEC COUNTY | KANABEC COUNTY.
KITTSON COUNTY | KITTSON COUNTY.
MARSHALL COUNTY | MARSHALL COUNTY.
MEEKER COUNTY | MEEKER COUNTY.
MILLE LACS COUNTY | MILLE LACS COUNTY.
MORRISON COUNTY | MORRISON COUNTY.
PINE COUNTY | PINE COUNTY.
RED LAKE COUNTY | RED LAKE COUNTY.
ROSEAU COUNTY | ROSEAU COUNTY.
MISSISSIPPI:
ADAMS COUNTY | ADAMS COUNTY.
ALCORN COUNTY | ALCORN COUNTY.
AMITE COUNTY | AMITE COUNTY.
ATTALA COUNTY | ATTALA COUNTY.
BENTON COUNTY | BENTON COUNTY.
BOLIVAR COUNTY | BOLIVAR COUNTY.
CALHOUN COUNTY | CALHOUN COUNTY.
CARROLL COUNTY | CARROLL COUNTY.
CHICKASAW COUNTY | CHICKASAW COUNTY.
CHOCTAW COUNTY | CHOCTAW COUNTY.
CLAIBORNE COUNTY | CLAIBORNE COUNTY.
CLARKE COUNTY | CLARKE COUNTY.
CLAY COUNTY | CLAY COUNTY.
COAHOMA COUNTY | COAHOMA COUNTY.
COLUMBUS CITY | COLUMBUSS CITY IN LOWNDES COUNTY.
COPIAH COUNTY | COPIAH COUNTY.
FRANKLIN COUNTY | FRANKLIN COUNTY.
GEORGE COUNTY | GEORGE COUNTY.
GREENE COUNTY | GREENE COUNTY.
GREENVILLE CITY | GREENVILLE CITY IN WASHINGTON COUNTY.
HOLMES COUNTY | HOLMES COUNTY.
HUMPHREYS COUNTY | HUMPHREYS COUNTY.
ISSAQUENA COUNTY | JEFFERSON COUNTY.
JEFFERSON DAVIS COUNTY | JEFFERSON DAVIS COUNTY.
KEMPER COUNTY | KEMPER COUNTY.
LAWRENCE COUNTY | LAWRENCE COUNTY.
LEFLORE COUNTY | LEFLORE COUNTY.
MARSHALL COUNTY | MARSHALL COUNTY.
MERIDIAN CITY | MERIDIAN CITY IN LAUDERDALE COUNTY.
MONROE COUNTY | MONROE COUNTY.
MONTGOMERY COUNTY | MONTGOMERY COUNTY.
NOXUBEE COUNTY | NOXUBEE COUNTY.
PANOLA COUNTY | PANOLA COUNTY.
PERRY COUNTY | PERRY COUNTY.
QUITMAN COUNTY | QUITMAN COUNTY.
SHARKEY COUNTY | SHARKEY COUNTY.
SUNFLOWER COUNTY | SUNFLOWER COUNTY.
TALLAHATCHIE COUNTY | TALLAHATCHIE COUNTY.
TIPPAH COUNTY | TIPPAH COUNTY.
TISHOMINGO COUNTY | TISHOMINGO COUNTY.
TUNICA COUNTY | TUNICA COUNTY.
VICKSBURG CITY | VICKSBURG CITY IN WARREN COUNTY.
WALTHALL COUNTY | WALTHALL COUNTY.
BALANCE OF WASHINGTON COUNTY | WASHINGTON COUNTY LESS GREENVILLE CITY.
WAYNE COUNTY | WAYNE COUNTY.
WEBSTER COUNTY | WEBSTER COUNTY.
WILKINSON COUNTY | WILKINSON COUNTY.
WINSTON COUNTY | WINSTON COUNTY.
YALOBUSHA COUNTY | YALOBUSHA COUNTY.
YAZOO COUNTY | YAZOO COUNTY.
MISSOURI:
BATES COUNTY | BATES COUNTY.
BENTON COUNTY | BENTON COUNTY.
CALDWELL COUNTY | CALDWELL COUNTY.
CHARITON COUNTY | CHARITON COUNTY.
CLARK COUNTY | CLARK COUNTY.
CRAWFORD COUNTY | CRAWFORD COUNTY.
DOUGLAS COUNTY | DOUGLAS COUNTY.
DUNKLIN COUNTY | DUNKLIN COUNTY.
HICKORY COUNTY | HICKORY COUNTY.
IRON COUNTY | IRON COUNTY.
KANSAS CITY MO | KANSAS CITY MO IN CASS COUNTY, CLAY COUNTY, JACKSON COUNTY, PLATTE COUNTY.
LACLEDE COUNTY | LACLEDE COUNTY.
LINN COUNTY | LINN COUNTY.
MADISON COUNTY | MADISON COUNTY.
MILLER COUNTY | MILLER COUNTY.
MISSISSIPPI COUNTY | MISSISSIPPI COUNTY.
MONROE COUNTY | MONROE COUNTY.
MORGAN COUNTY | MORGAN COUNTY.
NEW MADRID COUNTY | NEW MADRID COUNTY.
PEMISCOT COUNTY | PEMISCOT COUNTY.
REYNOLDS COUNTY | REYNOLDS COUNTY.
RIPLEY COUNTY | RIPLEY COUNTY.
SHANNON COUNTY | SHANNON COUNTY.
ST. LOUIS CITY | ST. LOUIS CITY.
ST. FRANCOIS COUNTY | ST. FRANCOIS COUNTY.
STONE COUNTY | STONE COUNTY.
SULLIVAN COUNTY | SULLIVAN COUNTY.
TANEY COUNTY | TANEY COUNTY.
TEXAS COUNTY | TEXAS COUNTY.
UNIVERSITY CITY | UNIVERSITY CITY IN ST. LOUIS COUNTY.
WASHINGTON COUNTY | WASHINGTON COUNTY.
WAYNE COUNTY | WAYNE COUNTY.
WRIGHT COUNTY | WRIGHT COUNTY.
MONTANA:
BIG HORN COUNTY | BIG HORN COUNTY.
GLACIER COUNTY | GLACIER COUNTY.
LAKE COUNTY | LAKE COUNTY.
LINCOLN COUNTY | LINCOLN COUNTY.
MINERAL COUNTY | MINERAL COUNTY.
MUSSELSHELL COUNTY | MUSSELSHELL COUNTY.
ROOSEVELT COUNTY | ROOSEVELT COUNTY.
SANDERS COUNTY | SANDERS COUNTY.
NEBRASKA:
THURSTON COUNTY | THURSTON COUNTY.
NEVADA:
LANDER COUNTY | LANDER COUNTY.
NORTH LAS VEGAS CITY | NORTH LAS VEGAS CITY IN CLARK COUNTY.
NEW JERSEY:
ATLANTIC CITY | ATLANTIC CITY IN ATLANTIC COUNTY.
CAMDEN CITY | CAMDEN CITY IN CAMDEN COUNTY.
CAPE MAY COUNTY | CAPE MAY COUNTY.
CITY OF ORANGE TOWNSHIP | CITY OF ORANGE TOWNSHIP IN ESSEX COUNTY.
BALANCE OF CUMBERLAND COUNTY | CUMBERLAND COUNTY LESS MILLVILLE CITY, VINELAND CITY.
EAST ORANGE CITY | EAST ORANGE CITY IN ESSEX COUNTY.
ELIZABETH CITY | ELIZABETH CITY IN UNION COUNTY.
GARFIELD CITY | GARFIELD CITY IN BERGEN COUNTY.
IRVINGTON TOWNSHIP | IRVINGTON TOWNSHIP IN ESSEX COUNTY.
JERSEY CITY | JERSEY CITY IN HUDSON COUNTY.
LONG BRANCH CITY | LONG BRANCH CITY IN MONMOUTH COUNTY.
MILLVILLE CITY | MILLVILLE CITY IN CUMBERLAND COUNTY.
NEW BRUNSWICK CITY | NEW BRUNSWICK CITY IN MIDDLESEX
NEWARK CITY | NEWARK CITY IN ESSEX COUNTY.
NORTH BERGEN TOWNSHIP | NORTH BERGEN TOWNSHIOP IN HUDSON COUNTY.
PASSAIC CITY | PASSAIC CITY IN PASSAIC COUNTY.
PATERSON CITY | PATERSON CITY IN PASSAIC COUNTY.
PERTH AMBOY CITY | PERTH AMBOY CITY IN MIDDLESEX COUNTY.
PLAINFIELD CITY | PLAINFIELD CITY IN UNION COUNTY.
TRENTON CITY | TRENTON CITY IN MERCER COUNTY.
UNION CITY | UNION CITY IN HUDSON COUNTY.
VINELAND CITY | VINELAND CITY IN CUMBERLAND COUNTY.
WEST NEW YORK TOWN | WEST NEW YORK TOWN IN HUDSON COUNTY.
NEW MEXICO:
CARLSBAD CITY | CARLSBAD CITY IN EDDY COUNTY.
CATRON COUNTY | CATRON COUNTY.
BALANCE OF DONA ANA COUNTY | DONA ANA COUNTY LESS LAS CRUCES CITY.
GRANT COUNTY | GRANT COUNTY.
GUADALUPE COUNTY | GUADALUPE COUNTY.
LUNA COUNTY | LUNA COUNTY.
MC KINLEY COUNTY | MC KINLEY COUNTY.
MORA COUNTY | MORA COUNTY.
BALANCE OF OTERO COUNTY | OTERO COUNTY LESS ALAMOGORDO CITY.
RIO ARRIBA COUNTY | RIO ARRIBA COUNTY.
ROSWELL CITY | ROSWELL CITY IN CHAVES COUNTY.
BALANCE OF SAN JUAN COUNTY | SAN JUAN COUNTY LESS FARMINGTON CITY.
BALANCE OF SANDOVAL COUNTY | SANDOVAL COUNTY LESS RIO RANCHO CITY.
TAOS COUNTY | TAOS COUNTY.
NEW YORK:
AUBURN CITY | AUBURN CITY IN CAYUGA COUNTY.
BINGHAMTON CITY | BINGHAMTON CITY IN BROOME COUNTY.
BRONX COUNTY | BRONX COUNTY.
BUFFALO CITY | BUFFALO CITY IN ERIE COUNTY.
CORTLAND COUNTY | CORTLAND COUNTY.
ELMIRA CITY | ELMIRA CITY IN CHEMUNG COUNTY.
BALANCE OF JEFFERSON COUNTY | JEFFERSON COUNTY LESS WATERTOWN CITY.
KINGS COUNTY | KINGS COUNTY.
LEWIS COUNTY | LEWIS COUNTY.
LOCKPORT CITY | LOCKPORT CITY IN NIAGARA COUNTY.
NEW YORK COUNTY | NEW YORK COUNTY.
NEWBURGH CITY | NEWBURGH CITY IN ORANGE COUNTY.
NIAGARA FALLS CITY | NIAGARA FALLS CITY IN NIAGARA COUNTY.
ORLEANS COUNTY | ORLEANS COUNTY.
OSWEGO COUNTY | OSWEGO COUNTY.
ROCHESTER CITY | ROCHESTER CITY IN MONROE COUNTY.
SCHUYLER COUNTY | SCHUYLER COUNTY.
ST. LAWRENCE COUNTY | ST. LAWRENCE COUNTY.
STEUBEN COUNTY | STEUBEN COUNTY.
SYRACUSE CITY | SYRACUSE CITY IN ONONDAGA COUNTY.
UTICA CITY | UTICA CITY IN ONEIDA COUNTY.
WATERTOWN CITY | WATERTOWN CITY IN JEFFERSON COUNTY.
NORTH CAROLINA:
ALEXANDER COUNTY | ALEXANDER COUNTY.
ALLEGHANY COUNTY | ALLEGHANY COUNTY.
ANSON COUNTY | ANSON COUNTY.
ASHE COUNTY | ASHE COUNTY.
BEAUFORT COUNTY | BEAUFORT COUNTY.
BERTIE COUNTY | BERTIE COUNTY.
BLADEN COUNTY | BLADEN COUNTY.
BALANCE OF BURKE COUNTY | BURKE COUNTY LESS HICKORY CITY.
BURLINGTON CITY | BURLINGTON CITY IN ALAMANCE COUNTY.
CALDWELL COUNTY | CALDWELL COUNTY.
CASWELL COUNTY | CASWELL COUNTY.
BALANCE OF CATAWBA COUNTY | CATAWBA COUNTY LESS HICKORY CITY.
CHEROKEE COUNTY | CHEROKEE COUNTY.
CLEVELAND COUNTY | CLEVELAND COUNTY.
COLUMBUS COUNTY | COLUMBUS COUNTY.
CONCORD CITY | CONCORD CITY IN CABARRUS COUNTY.
BALANCE OF DAVIDSON COUNTY | DAVIDSON COUNTY LESS HIGH POINT CITY.
DUPLIN COUNTY | DUPLIN COUNTY.
BALANCE OF EDGECOMBE COUNTY | EDGECOMBE COUNTY LESS ROCKY MOUNT CITY.
BALANCE OF GASTON COUNTY | GASTON COUNTY LESS GASTONIA CITY.
GASTONIA CITY | GASTONIA CITY IN GASTON COUNTY.
GOLDSBORO CITY | GOLDSBORO CITY IN WAYNE COUNTY.
GRAHAM COUNTY | GRAHAM COUNTY.
GREENVILLE CITY | GREENVILLE CITY IN PITT COUNTY.
HALIFAX COUNTY | HALIFAX COUNTY.
HARNETT COUNTY | HARNETT COUNTY.
HICKORY CITY | HICKORY CITY IN BURKE COUNTY, CATAWBA COUNTY.
HIGH POINT CITY | HIGH POINT CITY IN DAVIDSON COUNTY; GUILFORD COUNTY; RANDOLPH COUNTY.
HOKE COUNTY | HOKE COUNTY.
HYDE COUNTY | HYDE COUNTY.
KANNAPOLIS CITY | KANNAPOLIS CITY IN CABARRUS COUNTY, ROWAN COUNTY.
KINSTON CITY | KINSTON CITY IN LENOIR COUNTY.
LEE COUNTY | LEE COUNTY.
LINCOLN COUNTY | LINCOLN COUNTY.
MARTIN COUNTY | MARTIN COUNTY.
MC DOWELL COUNTY | MC DOWELL COUNTY.
MITCHELL COUNTY | MITCHELL COUNTY.
MONROE CITY | MONROE CITY IN UNION COUNTY.
MONTGOMERY COUNTY | MONTGOMERY COUNTY.
BALANCE OF NASH COUNTY | NASH COUNTY LESS ROCKY MOUNT CITY.
NORTHAMPTON COUNTY | NORTHAMPTON COUNTY.
PENDER COUNTY | PENDER COUNTY.
PERSON COUNTY | PERSON COUNTY.
RICHMOND COUNTY | RICHMOND COUNTY.
ROBESON COUNTY | ROBESON COUNTY.
ROCKINGHAM COUNTY | ROCKINGHAM COUNTY.
ROCKY MOUNT CITY | ROCKY MOUNT CITY IN EDGECOMBE COUNTY; NASH COUNTY.
BALANCE OF ROWAN COUNTY | ROWAN COUNTY LESS KANNAPOLIS CITY; SALISBURY CITY.
RUTHERFORD COUNTY | RUTHERFORD COUNTY.
SALISBURY CITY | SALISBURY CITY IN ROWAN COUNTY.
SAMPSON COUNTY | SAMPSON COUNTY.
SCOTLAND COUNTY | SCOTLAND COUNTY.
STANLY COUNTY | STANLY COUNTY.
SURRY COUNTY | SURRY COUNTY.
SWAIN COUNTY | SWAIN COUNTY.
TRANSYLVANIA COUNTY | TRANSYLVANIA COUNTY.
TYRRELL COUNTY | TYRRELL COUNTY.
VANCE COUNTY | VANCE COUNTY.
WARREN COUNTY | WARREN COUNTY.
WASHINGTON COUNTY | WASHINGTON COUNTY.
WILKES COUNTY | WILKES COUNTY.
WILSON CITY | WILSON CITY IN WILSON COUNTY.
WINSTON-SALEM CITY | WINSTON-SALEM CITY IN FORSYTH COUNTY.
YANCEY COUNTY | YANCEY COUNTY.
NORTH DAKOTA:
BENSON COUNTY | BENSON COUNTY.
MCHENRY COUNTY | MCHENRY COUNTY.
MCLEAN COUNTY | MCLEAN COUNTY.
PEMBINA COUNTY | PEMBINA COUNTY.
ROLETTE COUNTY | ROLETTE COUNTY.
SHERIDAN COUNTY | SHERIDAN COUNTY.
OHIO:
ADAMS COUNTY | ADAMS COUNTY.
AKRON CITY | AKRON CITY IN SUMMIT COUNTY.
ASHTABULA COUNTY | ASHTABULA COUNTY.
BARBERTON CITY | BARBERTON CITY IN SUMMIT COUNTY.
BROWN COUNTY | BROWN COUNTY.
CANTON CITY | CANTON CITY IN STARK COUNTY.
CARROLL COUNTY | CARROLL COUNTY.
CINCINNATI CITY | CINCINNATI CITY IN HAMILTON COUNTY.
CLEVELAND CITY | CLEVELAND CITY IN CUYAHOGA COUNTY.
COLUMBIANA COUNTY | COLUMBIANA COUNTY.
COSHOCTON COUNTY | COSHOCTON COUNTY.
CRAWFORD COUNTY | CRAWFORD COUNTY.
DAYTON CITY | DAYTON CITY IN MONTGOMERY COUNTY.
EAST CLEVELAND CITY | EAST CLEVELAND CITY IN CUYAHOGA COUNTY.
ELYRIA CITY | ELYRIA CITY IN LORAIN COUNTY.
GUERNSEY COUNTY | GUERNSEY COUNTY.
HARRISON COUNTY | HARRISON COUNTY.
HOCKING COUNTY | HOCKING COUNTY.
HURON COUNTY | HURON COUNTY.
JACKSON COUNTY | JACKSON COUNTY.
LIMA CITY | LIMA CITY IN ALLEN COUNTY.
LORAIN CITY | LORAIN CITY IN LORAIN COUNTY.
MANSFIELD CITY | MANSFIELD CITY IN RICHLAND COUNTY.
MARION CITY | MARION CITY IN MARION COUNTY.
MASSILLON CITY | MASSILLON CITY IN STARK COUNTY.
MEIGS COUNTY | MEIGS COUNTY.
MONROE COUNTY | MONROE COUNTY.
MORGAN COUNTY | MORGAN COUNTY.
NEWARK CITY | NEWARK CITY IN LICKING COUNTY.
NOBLE COUNTY | NOBLE COUNTY.
OTTAWA COUNTY | OTTAWA COUNTY.
PERRY COUNTY | PERRY COUNTY.
PIKE COUNTY | PIKE COUNTY.
SANDUSKY CITY | SANDUSKY CITY IN ERIE COUNTY.
SCIOTO COUNTY | SCIOTO COUNTY.
SENECA COUNTY | SENECA COUNTY.
SPRINGFIELD CITY | SPRINGFIELD CITY IN CLARK COUNTY.
TOLEDO CITY | TOLEDO CITY IN LUCAS COUNTY.
TROTWOOD CITY | TROTWOOD CITY IN MONTGOMERY COUNTY.
VINTON COUNTY | VINTON COUNTY.
WARREN CITY | WARREN CITY IN TRUMBULL COUNTY.
WILLIAMS COUNTY | WILLIAMS COUNTY.
YOUNGSTOWN CITY | YOUNGSTOWN CITY IN MAHONING COUNTY.
ZANESVILLE CITY | ZANESVILLE CITY IN MUSKINGUM COUNTY.
OKLAHOMA:
ADAIR COUNTY | ADAIR COUNTY.
CHOCTAW COUNTY | CHOCTAW COUNTY.
COAL COUNTY | COAL COUNTY.
HUGHES COUNTY | HUGHES COUNTY.
BALANCE OF KAY COUNTY | KAY COUNTY LESS PONCA CITY.
MAYES COUNTY | MAYES COUNTY.
MC CURTAIN COUNTY | MC CURTAIN COUNTY.
NOWATA COUNTY | NOWATA COUNTY.
OKFUSKEE COUNTY | OKFUSKEE COUNTY.
OKMULGEE COUNTY | OKMULGEE COUNTY.
OTTAWA COUNTY | OTTAWA COUNTY.
PUSHMATAHA COUNTY | PUSHMATAHA COUNTY.
SEMINOLE COUNTY | SEMINOLE COUNTY.
WOODS COUNTY | WOODS COUNTY.
OREGON:
ALBANY CITY | ALBANY CITY IN LINN COUNTY.
BAKER COUNTY | BAKER COUNTY.
BALANCE OF CLACKAMAS COUNTY | CLACKAMAS COUNTY LESS LAKE OSWEGO CITY, OREGON CITY CITY, PORTLAND CITY.
COLUMBIA COUNTY | COLUMBIA COUNTY.
COOS COUNTY | COOS COUNTY.
CROOK COUNTY | CROOK COUNTY.
CURRY COUNTY | CURRY COUNTY.
BALANCE OF DESCHUTES COUNTY | DESCHUTES COUNTY LESS BEND CITY.
DOUGLAS COUNTY | DOUGLAS COUNTY.
GRANT COUNTY | GRANT COUNTY.
HARNEY COUNTY | HARNEY COUNTY.
HOOD RIVER COUNTY | HOOD RIVER COUNTY.
BALANCE OF JACKSON COUNTY | JACKSON COUNTY LESS MEDFORD CITY
JEFFERSON COUNTY | JEFFERSON COUNTY.
JOSEPHINE COUNTY | JOSEPHINE COUNTY.
KLAMATH COUNTY | KLAMATH COUNTY.
LAKE COUNTY | LAKE COUNTY.
BALANCE OF LANE COUNTY | LANE COUNTY LESS EUGENE CITY, SPRINGFIELD CITY.
LINCOLN COUNTY | LINCOLN COUNTY.
BALANCE OF LINN COUNTY | LINN COUNTY LESS ALBANY CITY.
MALHEUR COUNTY | MALHEUR COUNTY.
BALANCE OF MARION COUNTY | MARION COUNTY LESS KEIZER CITY, SALEM CITY.
MC MINNVILLE CITY | MC MINNVILLE CITY IN YAMHILL COUNTY.
MORROW COUNTY | MORROW COUNTY.
BALANCE OF MULTNOMAH COUNTY | MULTNOMAH COUNTY LESS GRESHAM CITY, LAKE SWEGO CITY, PORTLAND CITY.
BALANCE OF POLK COUNTY | POLK COUNTY LESS SALEM CITY.
PORTLAND CITY | PORTLAND CITY IN CLACKAMAS COUNTY, MULTNOMAH COUNTY, WASHINGTON COUNTY.
SALEM CITY | SALEM CITY IN MARION COUNTY, POLK COUNTY.
SHERMAN COUNTY | SHERMAN COUNTY.
SPRINGFIELD CITY | SPRINGFIELD CITY IN LANE COUNTY.
UMATILLA COUNTY | UMATILLA COUNTY.
WALLOWA COUNTY | WALLOWA COUNTY.
WASCO COUNTY | WASCO COUNTY.
BALANCE OF WASHINGTON COUNTY | WASHINGTON COUNTY LESS BEAVERTON CITY, HILLSBORO CITY, PORTLAND CITY, TIGARD CITY.
WHEELER COUNTY | WHEELER COUNTY.
BALANCE OF YAMHILL COUNTY | YAMHILL COUNTY LESS MC MINNVILLE CITY.
PENNSYLVANIA:
ARMSTRONG COUNTY | ARMSTRONG COUNTY.
BEDFORD COUNTY | BEDFORD COUNTY.
CAMERON COUNTY | CAMERON COUNTY.
CARBON COUNTY | CARBON COUNTY.
CHESTER CITY | CHESTER CITY IN DELAWARE COUNTY.
CLEARFIELD COUNTY | CLEARFIELD COUNTY.
CLINTON COUNTY | CLINTON COUNTY.
CRAWFORD COUNTY | CRAWFORD COUNTY.
ELK COUNTY | ELK COUNTY.
ERIE CITY | ERIE CITY IN ERIE COUNTY.
BALANCE OF ERIE COUNTY | ERIE COUNTY LESS ERIE CITY, MILLCREEK TOWNSHIP.
FAYETTE COUNTY | FAYETTE COUNTY.
FOREST COUNTY | FOREST COUNTY.
HAZLETON CITY | HAZLETON CITY IN LUZERNE COUNTY.
HUNTINGDON COUNTY | HUNTINGDON COUNTY.
JOHNSTOWN CITY | JOHNSTOWN CITY IN CAMBRIA COUNTY.
MC KEESPORT CITY | MC KEESPORT CITY IN ALLEGHENY COUNTY.
MIFFLIN COUNTY | MIFFLIN COUNTY.
MONROE COUNTY | MONROE COUNTY.
NEW CASTLE CITY | NEW CASTLE CITY IN LAWRENCE COUNTY.
NORTHUMBERLAND COUNTY | NORTHUMBERLAND COUNTY.
PHILADELPHIA CITY | PHILADELPHIA CITY IN PHILADELPHIA COUNTY.
READING CITY | READING CITY IN BERKS COUNTY.
SCHUYLKILL COUNTY | SCHUYLKILL COUNTY.
SOMERSET COUNTY | SOMERSET COUNTY.
SUSQUEHANNA COUNTY | SUSQUEHANNA COUNTY.
WILLIAMSPORT CITY | WILLIAMSPORT CITY IN LYCOMING COUNTY.
YORK CITY | YORK CITY IN YORK COUNTY.
PUERTO RICO:
ADJUNTAS MUNICIPIO | ADJUNTAS MUNICIPIO.
AGUADA MUNICIPIO | AGUADA MUNICIPIO.
AGUADILLA MUNICIPIO | AGUADILLA MUNICIPIO.
AGUAS BUENAS MUNICIPIO | AGUAS BUENAS MUNICIPIO.
AIBONITO MUNICIPIO | AIBONITO MUNICIPIO.
ANASCO MUNICIPIO | ANASCO MUNICIPIO.
ARECIBO MUNICIPIO | ARECIBO MUNICIPIO.
ARROYO MUNICIPIO | ARROYO MUNICIPIO.
BARCELONETA MUNICIPIO | BARCELONETA MUNICIPIO.
BARRANQUITAS MUNICIPIO | BARRANQUITAS MUNICIPIO.
BAYAMON MUNICIPIO | BAYAMON MUNICIPIO.
CABO ROJO MUNICIPIO | CABO ROJO MUNICIPIO.
CAGUAS MUNICIPIO | CAGUAS MUNICIPIO.
CAMUY MUNICIPIO | CAMUY MUNICIPIO.
CANOVANAS MUNICIPIO | CANOVANAS MUNICIPIO.
CAROLINA MUNICIPIO | CAROLINA MUNICIPIO.
CATANO MUNICIPIO | CATANO MUNICIPIO.
CAYEY MUNICIPIO | CAYEY MUNICIPIO.
CEIBA MUNICIPIO | CEIBA MUNICIPIO.
CIALES MUNICIPIO | CIALES MUNICIPIO.
CIDRA MUNICIPIO | CIDRA MUNICIPIO.
COAMO MUNICIPIO | COAMO MUNICIPIO.
COMERIO MUNICIPIO | COMERIO MUNICIPIO.
COROZAL MUNICIPIO | COROZAL MUNICIPIO.
DORADO MUNICIPIO | DORADO MUNICIPIO.
FAJARDO MUNICIPIO | FAJARDO MUNICIPIO.
FLORIDA MUNICIPIO | FLORIDA MUNICIPIO.
GUANICA MUNICIPIO | GUANICA MUNICIPIO.
GUAYAMA MUNICIPIO | GUAYAMA MUNICIPIO.
GUAYANILLA MUNICIPIO | GUAYANILLA MUNICIPIO.
GURABO MUNICIPIO | GURABO MUNICIPIO.
HATILLO MUNICIPIO | HATILLO MUNICIPIO.
HORMIGUEROS MUNICIPIO | HORMIGUEROS MUNICIPIO.
HUMACAO MUNICIPIO | HUMACAO MUNICIPIO.
ISABELA MUNICIPIO | ISABELA MUNICIPIO.
JAYUYA MUNICIPIO | JAYUYA MUNICIPIO.
JUANA DIAZ MUNICIPIO | JUANA DIAZ MUNICIPIO.
JUNCOS MUNICIPIO | JUNCOS MUNICIPIO.
LAJAS MUNICIPIO | LAJAS MUNICIPIO.
LARES MUNICIPIO | LARES MUNICIPIO.
LAS MARIAS MUNICIPIO | LAS MARIAS MUNICIPIO.
LAS PIEDRAS MUNICIPIO | LAS PIEDRAS MUNICIPIO.
LOIZA MUNICIPIO | LOIZA MUNICIPIO.
LUQUILLO MUNICIPIO | LUQUILLO MUNICIPIO.
MANATI MUNICIPIO | MANATI MUNICIPIO.
MARICAO MUNICIPIO | MARICAO MUNICIPIO.
MAUNABO MUNICIPIO | MAUNABO MUNICIPIO.
MAYAGUEZ MUNICIPIO | MAYAGUEZ MUNICIPIO.
MOCA MUNICIPIO | MOCA MUNICIPIO.
MOROVIS MUNICIPIO | MOROVIS MUNICIPIO.
NAGUABO MUNICIPIO | NAGUABO MUNICIPIO.
NARANJITO MUNICIPIO | NARANJITO MUNICIPIO.
OROCOVIS MUNICIPIO | OROCOVIS MUNICIPIO.
PATILLAS MUNICIPIO | PATILLAS MUNICIPIO.
PENUELAS MUNICIPIO | PENUELAS MUNICIPIO.
PONCE MUNICIPIO | PONCE MUNICIPIO.
QUEBRADILLAS MUNICIPIO | QUEBRADILLAS MUNICIPIO.
RINCON MUNICIPIO | RINCON MUNICIPIO.
RIO GRANDE MUNICIPIO | RIO GRANDE MUNICIPIO.
SABANA GRANDE MUNICIPIO | SABANA GRANDE MUNICIPIO.
SALINAS MUNICIPIO | SALINAS MUNICIPIO.
SAN GERMAN MUNICIPIO | SAN GERMAN MUNICIPIO.
SAN JUAN MUNICIPIO | SAN JUAN MUNICIPIO.
SAN LORENZO MUNICIPIO | SAN LORENZO MUNICIPIO.
SAN SEBASTIAN MUNICIPIO | SAN SEBASTIAN MUNICIPIO.
SANTA ISABEL MUNICIPIO | SANTA ISABEL MUNICIPIO.
TOA BAJA MUNICIPIO | TOA BAJA MUNICIPIO.
UTUADO MUNICIPIO | UTUADO MUNICIPIO.
VEGA ALTA MUNICIPIO | VEGA ALTA MUNICIPIO.
VEGA BAJA MUNICIPIO | VEGA BAJA MUNICIPIO.
VIEQUES MUNICIPIO | VIEQUES MUNICIPIO.
VILLALBA MUNICIPIO | VILLALBA MUNICIPIO.
YABUCOA MUNICIPIO | YABUCOA MUNICIPIO.
YAUCO MUNICIPIO | YAUCO MUNICIPIO.
RHODE ISLAND:
CENTRAL FALLS CITY | CENTRAL FALLS CITY, PROVIDENCE COUNTY.
NEW SHOREHAM TOWN | NEW SHOREHAM TOWN.
SOUTH CAROLINA:
ABBEVILLE COUNTY | ABBEVILLE COUNTY
ANDERSON CITY | ANDERSON CITY IN ANDERSON COUNTY.
BARNWELL COUNTY | BARNWELL COUNTY.
CHEROKEE COUNTY | CHEROKEE COUNTY.
CHESTER COUNTY | CHESTER COUNTY.
CHESTERFIELD COUNTY | CHESTERFIELD COUNTY.
CLARENDON COUNTY | CLARENDON COUNTY.
COLLETON COUNTY | COLLETON COUNTY.
DARLINGTON COUNTY | DARLINGTON COUNTY.
DILLON COUNTY | DILLON COUNTY.
FAIRFIELD COUN | FAIRFIELD COUNTY.
FLORENCE CITY | FLORENCE CITY IN FLORENCE COUNTY.
BALANCE OF FLORENCE COUNTY | FLORENCE COUNTY LESS FLORENCE CITY.
GEORGETOWN COUNTY | GEORGETOWN COUNTY.
GREENWOOD COUNTY | GREENWOOD COUNTY.
HAMPTON COUNTY | HAMPTON COUNTY.
KERSHAW COUNTY | KERSHAW COUNTY.
LANCASTER COUNTY | LANCASTER COUNTY.
LAURENS COUNTY | LAURENS COUNTY.
LEE COUNTY | LEE COUNTY.
MARION COUNTY | MARION COUNTY.
MARLBORO COUNTY | MARLBORO COUNTY.
MC CORMICK COUNTY | MC CORMICK COUNTY.
NEWBERRY COUNTY | NEWBERRY COUNTY.
OCONEE COUNTY | OCONEE COUNTY.
ORANGEBURG COUNTY | ORANGEBURG COUNTY.
ROCKHILL CITY | ROCKHILL CITY IN YORK COUNTY.
SPARTANBURG CITY | SPARTANBURG CITY IN SPARTANBURG COUNTY.
SUMTER CITY | SUMTER CITY IN SUMTER COUNTY.
BALANCE OF SUMTER COUNTY | SUMTER COUNTY LESS SUMTER CITY.
UNION COUNTY | UNION COUNTY.
WILLIAMSBURG COUNTY | WILLIAMSBURG COUNTY.
SOUTH DAKOTA:
BUFFALO COUNTY | BUFFALO COUNTY.
DEWEY COUNTY | DEWEY COUNTY.
JACKSON COUNTY | JACKSON COUNTY.
SHANNON COUNTY | SHANNON COUNTY.
TODD COUNTY | TODD COUNTY.
ZIEBACH COUNTY | ZIEBACH COUNTY.
TENNESSEE:
BEDFORD COUNTY | BEDFORD COUNTY.
BENTON COUNTY | BENTON COUNTY.
BLEDSOE COUNTY | BLEDSOE COUNTY.
CARROLL COUNTY | CARROLL COUNTY.
CLAY COUNTY | CLAY COUNTY.
COCKE COUNTY | COCKE COUNTY.
CROCKETT COUNTY | CROCKETT COUNTY.
DECATUR COUNTY | DECATUR COUNTY.
DYER COUNTY | DYER COUNTY.
FENTRESS COUNTY | FENTRESS COUNTY.
GIBSON COUNTY | GIBSON COUNTY.
GILES COUNTY | GILES COUNTY.
GRAINGER COUNTY | GRAINGER COUNTY.
HANCOCK COUNTY | HANCOCK COUNTY.
HARDEMAN COUNTY | HARDEMAN COUNTY.
HARDIN COUNTY | HARDIN COUNTY.
HAYWOOD COUNTY | HAYWOOD COUNTY.
HENDERSON COUNTY | HENDERSON COUNTY.
HENRY COUNTY | HENRY COUNTY.
HICKMAN COUNTY | HICKMAN COUNTY.
HOUSTON COUNTY | HOUSTON COUNTY.
HUMPHREYS COUNTY | HUMPHREYS COUNTY.
JACKSON COUNTY | JACKSON COUNTY.
JOHNSON COUNTY | JOHNSON COUNTY.
LAUDERDALE COUNTY | LAUDERDALE COUNTY.
LAWRENCE COUNTY | LAWRENCE COUNTY.
LEWIS COUNTY | LEWIS COUNTY.
MACON COUNTY | MACON COUNTY.
MARSHALL COUNTY | MARSHALL COUNTY.
MC MINN COUNTY | MC MINN COUNTY.
MC NAIRY COUNTY | MC NAIRY COUNTY.
MEIGS COUNTY | MEIGS COUNTY.
MEMPHIS CITY | MEMPHIS CITY IN SHELBY COUNTY.
MONROE COUNTY | MONROE COUNTY.
MORGAN COUNTY | MORGAN COUNTY.
MORRISTOWN CITY | MORRISTOWN CITY IN HAMBLEN COUNTY.
PERRY COUNTY | PERRY COUNTY.
PICKETT COUNTY | PICKETT COUNTY.
SCOTT COUNTY | SCOTT COUNTY.
STEWART COUNTY | STEWART COUNTY.
TROUSDALE COUNTY | TROUSDALE COUNTY.
VAN BUREN COUNTY | VAN BUREN COUNTY.
WAYNE COUNTY | WAYNE COUNTY.
WEAKLEY COUNTY | WEAKLEY COUNTY.
WHITE COUNTY | WHITE COUNTY.
TEXAS:
BAYTOWN CITY | BAYTOWN CITY IN HARRIS COUNTY.
BEAUMONT CITY | BEAUMONT CITY IN JEFFERSON COUNTY.
BALANCE OF BRAZORIA COUNTY | BRAZORIA COUNTY LESS LAKE JACKSON CITY; PEARLAND CITY.
BROOKS COUNTY | BROOKS COUNTY.
BROWNSVILLE CITY | BROWNSVILLE CITY IN CAMERON COUNTY.
CALDWELL COUNTY | CALDWELL COUNTY.
CALHOUN COUNTY | CALHOUN COUNTY.
BALANCE OF CAMERON COUNTY | CAMERON COUNTY LESS BROWNSVILLE CITY; HARLINGEN CITY.
CASS COUNTY | CASS COUNTY.
CLEBURNE CITY | CLEBURNE CITY IN JOHNSON COUNTY.
COCHRAN COUNTY | COCHRAN COUNTY.
COLEMAN COUNTY | COLEMAN COUNTY.
CORSICANA CITY | CORSICANA CITY IN NAVARRO COUNTY.
CULBERSON COUNTY | CULBERSON COUNTY.
DALLAS CITY | DALLAS CITY IN COLLIN COUNTY; DALLAS COUNTY; DENTON COUNTY.
DEL RIO CITY | DEL RIO CITY IN VAL VERDE COUNTY.
DIMMIT COUNTY | DIMMIT COUNTY.
DUVAL COUNTY | DUVAL COUNTY.
EAGLE PASS CITY | EAGLE PASS CITY IN MAVERICK COUNTY.
EDINBURG CITY | EDINBURG CITY IN HIDALGO COUNTY.
EL PASO CITY | EL PASO CITY IN EL PASO COUNTY.
BALANCE OF EL PASO COUNTY | EL PASO COUNTY LESS EL PASO CITY; SOCORRO CITY.
FANNIN COUNTY | FANNIN COUNTY.
FLOYD COUNTY | FLOYD COUNTY.
FRIO COUNTY | FRIO COUNTY.
FRISCO CITY | FRISCO CITY IN COLLIN COUNTY; DENTON COUNTY.
FT WORTH CITY | FT WORTH CITY IN TARRANT COUNTY.
GALVESTON CITY | GALVESTON CITY IN GALVESTON COUNTY.
BALANCE OF GALVESTON COUNTY | GALVESTON COUNTY LESS FRIENDSWOOD CITY; GALVESTON CITY; LEAGUE CITY; TEXAS CITY.
GRAND PRAIRIE CITY | GRAND PRAIRIE CITY IN DALLAS COUNTY; TARRANT COUNTY.
GRIMES COUNTY | GRIMES COUNTY.
HARDIN COUNTY | HARDIN COUNTY.
HARLINGEN CITY | HARLINGEN CITY IN CAMERON COUNTY.
BALANCE OF HIDALGO COUNTY | HIDALGO COUNTY LESS EDINBURG CITY; MC ALLEN CITY; MISSION CITY; PHARR CITY; SAN JUAN CITY; WESLACO CITY.
HOUSTON CITY | HOUSTON CITY IN FORT BEND COUNTY; HARRIS COUNTY.
HUDSPETH COUNTY | HUDSPETH COUNTY.
HUTCHINSON COUNTY | HUTCHINSON COUNTY.
JASPER COUNTY | JASPER COUNTY.
JIM WELLS COUNTY | JIM WELLS COUNTY.
KAUFMAN COUNTY | KAUFMAN COUNTY.
KILLEEN CITY | KILLEEN CITY IN BELL COUNTY.
KINNEY COUNTY | KINNEY COUNTY.
LAREDO CITY | LAREDO CITY IN WEBB COUNTY.
LIBERTY COUNTY | LIBERTY COUNTY.
LONGVIEW CITY | LONGVIEW CITY IN GREGG COUNTY, HARRISON COUNTY.
LOVING COUNTY | LOVING COUNTY.
MARION COUNTY | MARION COUNTY.
MATAGORDA COUNTY | MATAGORDA COUNTY.
BALANCE OF MAVERICK COUNTY | MAVERICK COUNTY LESS EAGLE PASS CITY.
MC ALLEN CITY | MC ALLEN CITY IN HIDALGO COUNTY.
MC KINNEY CITY | MC KINNEY CITY IN COLLIN COUNTY.
MISSION CITY | MISSION CITY IN HIDALGO COUNTY.
MORRIS COUNTY | MORRIS COUNTY.
NEWTON COUNTY | NEWTON COUNTY.
ORANGE COUNTY | ORANGE COUNTY.
PANOLA COUNTY | PANOLA COUNTY.
PARIS CITY | PARIS CITY IN LAMAR COUNTY.
PHARR CITY | PHARR CITY IN HIDALGO COUNTY.
PORT ARTHUR CITY | PORT ARTHUR CITY IN JEFFERSON COUNTY.
PRESIDIO COUNTY | PRESIDIO COUNTY.
RED RIVER COUNTY | RED RIVER COUNTY.
REEVES COUNTY | REEVES COUNTY.
SABINE COUNTY | SABINE COUNTY.
SAN JUAN CITY | SAN JUAN CITY IN HIDALGO COUNTY.
SAN MARCOS CITY | SAN MARCOS CITY IN HAYS COUNTY.
SHELBY COUNTY | SHELBY COUNTY.
SHERMAN CITY | SHERMAN CITY IN GRAYSON COUNTY.
SOCORRO CITY | SOCORRO CITY IN EL PASO COUNTY.
SOMERVELL COUNTY | SOMERVELL COUNTY.
STARR COUNTY | STARR COUNTY.
TEXAS CITY | TEXAS CITY IN GALVESTON COUNTY.
TYLER COUNTY | TYLER COUNTY.
UVALDE COUNTY | UVALDE COUNTY.
WARD COUNTY | WARD COUNTY.
BALANCE OF WEBB COUNTY | WEBB COUNTY LESS LAREDO CITY.
WESLACO CITY | WESLACO CITY IN HIDALGO COUNTY.
WILLACY COUNTY | WILLACY COUNTY.
WINKLER COUNTY | WINKLER COUNTY.
ZAPATA COUNTY | ZAPATA COUNTY.
ZAVALA COUNTY | ZAVALA COUNTY.
UTAH:
CARBON COUNTY | CARBON COUNTY.
CLEARFIELD CITY | CLEARFIELD CITY IN DAVIS COUNTY.
DUCHESNE COUNTY | DUCHESNE COUNTY.
EMERY COUNTY | EMERY COUNTY.
GARFIELD COUNTY | GARFIELD COUNTY.
GRAND COUNTY | GRAND COUNTY.
JUAB COUNTY | JUAB COUNTY.
MIDVALE CITY | MIDVALE CITY IN SALT LAKE COUNTY.
OGDEN CITY | OGDEN CITY IN WEBER COUNTY.
SAN JUAN COUNTY | SAN JUAN COUNTY.
SANPETE COUNTY | SANPETE COUNTY.
SUMMIT COUNTY | SUMMIT COUNTY.
TOOELE CITY | TOOELE CITY IN TOOELE COUNTY.
WASATCH COUNTY | WASATCH COUNTY.
WEST VALLEY CITY | WEST VALLEY CITY IN SALT LAKE COUNTY.
VERMONT:
ESSEX COUNTY | ESSEX COUNTY.
KILLINGTON TOWN | KILLINGTON TOWN IN RUTLAND COUNTY.
ORLEANS COUNTY | ORLEANS COUNTY.
VIRGINIA:
APPOMATTOX COUNTY | APPOMATTOX COUNTY.
BUCHANAN COUNTY | BUCHANAN COUNTY.
CARROLL COUNTY | CARROLL COUNTY.
DANVILLE CITY | DANVILLE CITY.
DICKENSON COUNTY | DICKENSON COUNTY.
GALAX CITY | GALAX CITY.
GRAYSON COUNTY | GRAYSON COUNTY.
HALIFAX COUNTY | HALIFAX COUNTY.
HENRY COUNTY | HENRY COUNTY.
MARTINSVILLE CITY | MARTINSVILLE CITY.
MECKLENBURG COUNTY | MECKLENBURG COUNTY.
PAGE COUNTY | PAGE COUNTY.
PATRICK COUNTY | PATRICK COUNTY.
PETERSBURG CITY | PETERSBURG CITY.
PITTSYLVANIA COUNTY | PITTSYLVANIA COUNTY.
PULASKI COUNTY | PULASKI COUNTY.
SMYTH COUNTY | SMYTH COUNTY.
WILLIAMSBURG CITY | WILLIAMSBURG CITY.
WASHINGTON:
ADAMS COUNTY | ADAMS COUNTY.
AUBURN CITY | AUBURN CITY IN KING COUNTY.
BREMERTON CITY | BREMERTON CITY IN KITSAP COUNTY.
BURIEN CITY | BURIEN CITY IN KING COUNTY.
BALANCE OF CHELAN COUNTY | CHELAN COUNTY LESS WENATCHEE CITY.
CLALLAM COUNTY | CLALLAM COUNTY.
BALANCE OF CLARK COUNTY | CLARK COUNTY LESS VANCOUVER CITY.
COLUMBIA COUNTY | COLUMBIA COUNTY.
BALANCE OF COWLITZ COUNTY | COWLITZ COUNTY LESS LONGVIEW CITY.
DOUGLAS COUNTY | DOUGLAS COUNTY.
EVERETT CITY | EVERETT CITY IN SNOHOMISH COUNTY.
FERRY COUNTY | FERRY COUNTY.
GRANT COUNTY | GRANT COUNTY.
GRAYS HARBOR COUNTY | GRAYS HARBOR COUNTY.
KENNEWICK CITY | KENNEWICK CITY IN BENTON COUNTY.
KLICKITAT COUNTY | KLICKITAT COUNTY.
LAKEWOOD CITY | LAKEWOOD CITY IN PIERCE COUNTY.
LEWIS COUNTY | LEWIS COUNTY.
LONGVIEW CITY | LONGVIEW CITY IN COWLITZ COUNTY.
LYNNWOOD CITY | LYNNWOOD CITY IN SNOHOMISH COUNTY.
MASON COUNTY | MASON COUNTY.
MOUNT VERNON CITY | MOUNT VERNON CITY IN SKAGIT COUNTY.
OKANOGAN COUNTY | OKANOGAN COUNTY.
PACIFIC COUNTY | PACIFIC COUNTY.
PASCO CITY | PASCO CITY IN FRANKLIN COUNTY.
PEND OREILLE COUNTY | PEND OREILLE COUNTY.
RENTON CITY | RENTON CITY IN KING COUNTY.
SEATTLE CITY | SEATTLE CITY IN KING COUNTY.
BALANCE OF SKAGIT COUNTY | SKAGIT COUNTY LESS MOUNT VERNON CITY.
SKAMANIA COUNTY | SKAMANIA COUNTY.
BALANCE OF SNOHOMISH COUNTY | SNOHOMISH COUNTY LESS BOTHELL CITY, EDMONDS CITY, EVERETT CITY, LYNNWOOD CITY, MARYSVILLE CITY.
SPOKANE CITY | SPOKANE CITY IN SPOKANE COUNTY.
STEVENS COUNTY | STEVENS COUNTY.
TACOMA CITY | TACOMA CITY IN PIERCE COUNTY.
VANCOUVER CITY | VANCOUVER CITY IN CLARK COUNTY.
WAHKIAKUM COUNTY | WAHKIAKUM COUNTY.
WALLA WALLA CITY | WALLA WALLA CITY IN WALLA WALLA COUNTY.
WENATCHEE CITY | WENATCHEE CITY IN CHELAN COUNTY.
YAKIMA CITY | YAKIMA CITY IN YAKIMA COUNTY.
BALANCE OF YAKIMA COUNTY | YAKIMA COUNTY LESS YAKIMA CITY.
WEST VIRGINIA:
BARBOUR COUNTY | BARBOUR COUNTY.
BOONE COUNTY | BOONE COUNTY.
BRAXTON COUNTY | BRAXTON COUNTY.
CALHOUN COUNTY | CALHOUN COUNTY.
CLAY COUNTY | CLAY COUNTY.
FAYETTE COUNTY | FAYETTE COUNTY.
GILMER COUNTY | GILMER COUNTY.
GRANT COUNTY | GRANT COUNTY.
GREENBRIER COUNTY | GREENBRIER COUNTY.
JACKSON COUNTY | JACKSON COUNTY.
LEWIS COUNTY | LEWIS COUNTY.
LINCOLN COUNTY | LINCOLN COUNTY.
LOGAN COUNTY | LOGAN COUNTY.
MASON COUNTY | MASON COUNTY.
MC DOWELL COUNTY | MC DOWELL COUNTY.
MINERAL COUNTY | MINERAL COUNTY.
MINGO COUNTY | MINGO COUNTY.
NICHOLAS COUNTY | NICHOLAS COUNTY.
PARKERSBURG CITY | PARKERSBURG CITY IN WOOD COUNTY.
PLEASANTS COUNTY | PLEASANTS COUNTY.
POCAHONTAS COUNTY | POCAHONTAS COUNTY.
RITCHIE COUNTY | RITCHIE COUNTY.
ROANE COUNTY | ROANE COUNTY.
SUMMERS COUNTY | SUMMERS COUNTY.
TUCKER COUNTY | TUCKER COUNTY.
UPSHUR COUNTY | UPSHUR COUNTY.
WEBSTER COUNTY | WEBSTER COUNTY.
WETZEL COUNTY | WETZEL COUNTY.
WIRT COUNTY | WIRT COUNTY.
WYOMING COUNTY | WYOMING COUNTY.
WISCONSIN:
ASHLAND COUNTY | ASHLAND COUNTY.
BAYFIELD COUNTY | BAYFIELD COUNTY.
BELOIT CITY | BELOIT CITY IN ROCK COUNTY.
CLARK COUNTY | CLARK COUNTY.
FLORENCE COUNTY | FLORENCE COUNTY.
FOREST COUNTY | FOREST COUNTY.
GREEN BAY CITY | GREEN BAY CITY IN BROWN COUNTY.
IRON COUNTY | IRON COUNTY.
JUNEAU COUNTY | JUNEAU COUNTY.
KENOSHA CITY | KENOSHA CITY IN KENOSHA COUNTY.
LANGLADE COUNTY | LANGLADE COUNTY.
MANITOWOC CITY | MANITOWOC CITY IN MANITOWOC COUNTY.
MARINETTE COUNTY | MARINETTE COUNTY.
MARQUETTE COUNTY | MARQUETTE COUNTY.
MENOMINEE COUNTY | MENOMINEE COUNTY.
MILWAUKEE CITY | MILWAUKEE CITY IN MILWAUKEE COUNTY.
OCONTO COUNTY | OCONTO COUNTY.
POLK COUNTY | POLK COUNTY.
RACINE CITY | RACINE CITY IN RACINE COUNTY.
RUSK COUNTY | RUSK COUNTY.
WASHBURN COUNTY | WASHBURN COUNTY.
WEST BEND CITY | WEST BEND CITY IN WASHINGTON COUNTY.

[FR Doc. 04-24138 Filed 10-27-04; 8:45 am]

BILLING CODE 4510-30-P